DEPARTMENT OF HOUSING AND URBAN DEVELOPMENT

[Docket No. FR-5125-N-06]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7262, Department of Housing and Urban Development, 451 Seventh Street SW., Washington, DC 20410; telephone (202) 708-1234; TDD number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD reviewed in 2006 for suitability for use to assist the homeless. The properties were reviewed using information provided to HUD by Federal landholding agencies regarding unutilized and underutilized buildings and real property controlled by such agencies or by GSA regarding its inventory of excess or surplus Federal property.

In accordance with 24 CFR part 581.3(b) landholding agencies are required to notify HUD by December 31, 2006, of the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S.Army: Veronica Rines, Headquarters, Department of the Army, Office of the Assistant Chief of Staff for Installation Management, Attn: DAIM-ZS, Room 8536, 2511 Jefferson Davis Hwy., Arlington, VA 22202; (703) 601-2545; Corps of Engineers: Tracy Beck, Army Corps of Engineers, Office of Counsel, CECC-R, 441 G Street, Washington, DC 20314-1000; (202) 761-0019; U.S.Navy: Warren Meekins, Dept. of Navy, Real Estate Services, Naval Facilities Engineering Command, Washington Navy Yard, 1322 Patterson Ave., SE., Suite 1000, Washington, DC 20374-5065; (202) 685-9305; U.S.Air Force: Kathryn M. Halvorson, Air Force Real Property Agency, 1700 North Moore St., Suite 2300, Arlington, VA 22209-2802; (703) 696-5501; GSA: Gordon S. Creed, Office of Property Disposal, GSA, 18th and F Streets NW., Washington, DC 20405; (202) 501-0084; Dept. of Veterans Affairs: George Szwarcman, Real Property Service, Dept. of Veterans Affairs, Room 555, 811 Vermont Ave., NW., Washington, DC 20420; (202) 565-5398; Dept. of Energy: John Watson, Office of Engineering & Construction Management, ME-90, Washington, DC 20585; (202) 586-4548; Dept. of Agriculture: Marsha Pruitt, Reporters Building, 300 7th St., SW, Rm 310B, Washington, DC 20250; (202) 720-4335; Dept. of Interior: Linda Tribby, Acquisition & Property Management, Dept. of Interior, 1849 C St., NW., MS 5512, Washington, DC 20240; (202) 219-0728; (These are not toll-free numbers).

Dated: February 1, 2007.
Mark R. Johnston,
Deputy Assistant Secretary for Special Needs.

TITLE V PROPERTIES REPORTED IN YEAR 2006 WHICH ARE SUITABLE AND AVAILABLE

Agriculture

Colorado

Building

Bldg. 128

Property Number: 15200630001

Aspen Ranger District

Pitkin CO 81601

Status: Unutilized

Comments: 600 sq. ft. cabin, needs extensive repairs, off-site use only.

Montana

Building

Bldg. 2002

Property Number: 15200620001

200 Ranger Station Rd.

Bigfork Co: Flathead MT 59911

Status: Excess

Comments: 1503 sq. ft., needs rehab, most recent use—office, presence of asbestos/lead paint, offsite use only.

Air Force

Hawaii

Building

Bldg. 849

Property Number: 18200330008

Bellows AFS

Bellows AFS HI

Status: Unutilized

Comments: 462 sq. ft., concrete storage facility, off-site use only.

Missouri

Building

Bldgs. 90A/B, 91A/B, 92A/B

Property Number: 18200220002

Jefferson Barracks Housing

St. Louis MO 63125

Status: Excess

Comments: 6450 sq. ft., needs repair, includes 2 acres.

New York

Building

Bldg. 240

Property Number: 18200340023

Rome Lab

Rome Co: Oneida NY 13441

Status: Unutilized

Comments: 39108 sq. ft., presence of asbestos, most recent use—Electronic Research Lab.

Bldg. 247

Property Number: 18200340024

Rome Lab

Rome Co: Oneida NY 13441

Status: Unutilized

Comments: 13199 sq. ft., presence of asbestos, most recent use—Electronic Research Lab.

Air Force

New York

Building

Bldg. 248

Property Number: 18200340025

Rome Lab

Rome Co: Oneida NY 13441

Status: Unutilized

Comments: 4000 sq. ft., presence of asbestos, most recent use—Electronic Research Lab.

Bldg. 302

Property Number: 18200340026

Rome Lab

Rome Co: Oneida NY 13441

Status: Unutilized

Comments: 10288 sq. ft., presence of asbestos, most recent use—communications facility.

South Carolina

4 Bldgs.

Property Number: 18200430025

Charleston AFB

N. Charleston SC 29404

Location:2314A/B, 2327A/B, 2339A/B, 2397A/B

Status: Excess

Comments: 2722 sq. ft., presence of asbestos/lead paint, most recent use—residential, off-site use only.

4 Bldgs.

Property Number: 18200430027

Charleston AFB

N. Charleston SC 29404

Location:2315A/B, 2323A/B, 2330A/B, 2387A/B

Status: Excess

Comments: 2756 sq. ft., presence of asbestos/lead paint, most recent use—residential, off-site use only.

Air Force

South Carolina

Building

3 Bldgs.

Property Number: 18200430028

Charleston AFB

N. Charleston SC 29404

Location:2321A/B, 2326A/B, 2336A/B

Status: Excess

Comments: 2766 sq. ft., presence of asbestos/lead paint, most recent use—residential, off-site use only.

Bldg. 2331A /B

Property Number: 18200430029

Charleston AFB

N. Charleston SC 29494

Status: Excess

Comments: 2803 sq. ft., presence of asbestos/lead paint, most recent use—residential, off-site use only.

Bldg. 2341A/B

Property Number: 18200430030

Charleston AFB

N. Charleston SC 29404

Status: Excess

Comments: 2715 sq. ft., presence of asbestos/lead paint, most recent use—residential, off-site use only.

4 Bldgs.

Property Number: 18200430048

Charleston AFB

N. Charleston SC 29404

Location:1846A/B, 1853A/B, 1862A/B, 2203A/B

Status: Excess

Comments: 2363 sq. ft., presence of asbestos/lead paint, most recent use—residential, off-site use only.

Air Force

South Carolina

Building

Bldg. 1828A/B

Property Number: 18200430052

Charleston AFB

N. Charleston SC 29404

Status: Excess

Comments: 2330 sq. ft., presence of asbestos/lead paint, most recent use—residential, off-site use only.

Army

Alaska

Building

Bldg. 00001

Property Number: 21200340075

Kiana Natl Guard Armory

Kiana AK 99749

Status: Excess

Comments: 1200 sq. ft., Butler Bldg., needs repair, off-site use only.

Arizona

Building

Bldg. 30012, Fort Huachuca

Property Number: 21199310298

Sierra Vista Co: Cochise AZ 85635

Status: Excess

Comments: 237 sq. ft., 1-story block, most recent use—storage

Bldg. S-306

Property Number: 21199420346

Yuma Proving Ground

Yuma Co: Yuma/La Paz AZ 85365-9104

Status: Unutilized

Comments: 4103 sq. ft., 2-story, needs major rehab, off-site use only.

Bldg. 503, Yuma Proving Ground

Property Number: 21199520073

Yuma Co: Yuma AZ 85365-9104

Status: Underutilized

Comments: 3789 sq. ft., 2-story, major structural changes required to meet floor loading code requirements, presence of asbestos, off-site use only.

Army

Arizona

Building

Bldg. 43002

Property Number: 21200440066

Fort Huachuca

Cochise AZ 85613-7010

Status: Excess

Comments: 23,152 sq. ft., presence of asbestos/lead paint, most recent use—dining, off-site use only.

Bldg. 66150

Property Number: 21200540079

Fort Huachuca

Cochise AZ 85613

Status: Excess

Comments: 4027 sq. ft., most recent use—storage, off-site use only.

Bldg. 90335

Property Number: 21200540080

Fort Huachuca

Cochise AZ 85613

Status: Excess

Comments: 456 sq. ft., most recent use—storage, off-site use only.

Bldg. 90336

Property Number: 21200540081

Fort Huachuca

Cochise AZ 85613

Status: Excess

Comments: 8339 sq. ft., most recent use—storage, off-site use only.

Army

California

Building

Bldgs. 18026, 18028

Property Number: 21200130081

Camp Roberts

Monterey CA 93451-5000

Status: Excess

Comments: 2024 sq. ft., concrete, poor condition, off-site use only.

Colorado

Building

Bldgs. 25, 26, 27

Property Number: 21200420178

Pueblo Chemical Depot

Pueblo CO 81006

Status: Unutilized

Comments: 1311 sq. ft., presence of asbestos/lead paint, most recent use—housing, off-site use only.

Bldg. 00127

Property Number: 21200420179

Pueblo Chemical Depot

Pueblo CO 81006

Status: Unutilized

Comments: 8067 sq. ft., presence of asbestos, most recent use—barracks, off-site use only.

Army

Georgia

Building

Bldg. 4963, Fort Benning

Property Number: 21199220710

Ft. Benning Co: Muscogee GA 31905

Status: Unutilized

Comments: 6077 sq. ft., 1 story, most recent use—storehouse, need repairs, off-site removal only.

Bldg. 2396, Fort Benning

Property Number: 21199220712

Ft. Benning Co: Muscogee GA 31905

Status: Unutilized

Comments: 9786 sq. ft., 1 story, most recent use—dining facility, needs major rehab, off-site removal only.

Bldg. 4967, Fort Benning

Property Number: 21199220728

Ft. Benning Co: Muscogee GA 31905

Status: Unutilized

Comments: 6077 sq. ft., 1 story, most recent use—storage, need repairs, off-site removal only.

Bldg. 4944, Fort Benning

Property Number: 21199220747

Ft. Benning Co: Muscogee GA 31905

Status: Unutilized

Comments: 6400 sq. ft., 1 story, most recent use—vehicle maintenance shop, need repairs, off-site removal only.

Bldg. 4964, Fort Benning

Property Number: 21199220763

Ft. Benning Co: Muscogee GA 31905

Status: Unutilized

Comments: 2000 sq. ft., 1 story, most recent use—headquarters bldg., need repairs, off-site removal only.

Army

Georgia

Building

Bldg. 4945, Fort Benning

Property Number: 21199220779

Ft. Benning Co: Muscogee GA 31905

Status: Unutilized

Comments: 220 sq. ft., 1 story, most recent use—gas station, needs major rehab, off-site removal only.

Bldg. 4023, Fort Benning

Property Number: 21199310461

Ft. Benning Co: Muscogee GA 31905

Status: Unutilized

Comments: 2269 sq. ft., 1-story, needs rehab, most recent use—maintenance shop, off-site use only.

Bldg. 4024, Fort Benning

Property Number: 21199310462

Ft. Benning Co: Muscogee GA 31905

Status: Unutilized

Comments: 3281 sq. ft., 1-story, needs rehab, most recent use—maintenance shop, off-site use only.

Bldg 4051, Fort Benning

Property Number: 21199520175

Ft. Benning Co: Muscogee GA 31905

Status: Unutilized

Comments: 967 sq. ft., 1-story, needs rehab, most recent use—storage, off-site use only.

Bldg. 322

Property Number: 21199720156

Fort Benning

Ft. Benning Co: Muscogee GA 31905

Status: Unutilized

Comments: 9600 sq. ft., needs rehab, most recent use—admin., off-site use only.

Army

Georgia

Building

Bldg. 2593

Property Number: 21199720167

Fort Benning

Ft. Benning Co: Muscogee GA 31905

Status: Unutilized

Comments: 13644 sq. ft., needs rehab, most recent use—parachute shop, off-site use only.

Bldg. 2595

Property Number: 21199720168

Fort Benning

Ft. Benning Co: Muscogee GA 31905

Status: Unutilized

Comments: 3356 sq. ft., needs rehab, most recent use—chapel, off-site use only.

Bldg. 4476

Property Number: 21199720184

Fort Benning

Ft. Benning Co: Muscogee GA 31905

Status: Unutilized

Comments: 3148 sq. ft., needs rehab, most recent use—vehicle maint. shop, off-site use only.

Bldg. 92

Property Number: 21199830278

Fort Benning Null Co: Muscogee GA 31905

Status: Unutilized

Comments: 637 sq. ft., needs rehab, most recent use—admin., off-site use only.

Bldg. 4232

Property Number: 21199830291

Fort Benning Null Co: Muscogee GA 31905

Status: Unutilized

Comments: 3720 sq. ft., needs rehab, most recent use—maint. bay, off-site use only.

Army

Georgia

Building

Bldg. 2288

Property Number: 21199930123

Fort Benning

Ft. Benning Co: Muscogee GA 31905

Status: Unutilized

Comments: 2481 sq. ft., most recent use—admin., off-site use only.

Bldg. 2293

Property Number: 21199930125

Fort Benning

Ft. Benning Co: Muscogee GA 31905

Status: Unutilized

Comments: 2600 sq. ft., most recent use—hdqts. bldg., off-site use only.

Bldg. 2297

Property Number: 21199930126

Fort Benning

Ft. Benning Co: Muscogee GA 31905

Status: Unutilized

Comments: 5156 sq. ft., most recent use—admin.

Bldg. 2508

Property Number: 21199930128

Fort Benning

Ft. Benning Co: Muscogee GA 31905

Status: Unutilized

Comments: 2434 sq. ft., most recent use—storage, off-site use only.

Bldg. 2815

Property Number: 21199930129

Fort Benning

Ft. Benning Co: Muscogee GA 31905

Status: Unutilized

Comments: 2578 sq. ft., most recent use—hdqts. bldg., off-site use only.

Army

Georgia

Building

Bldg. 3815

Property Number: 21199930130

Fort Benning

Ft. Benning Co: Muscogee GA 31905

Status: Unutilized

Comments: 7575 sq. ft., most recent use—storage, off-site use only.

Bldg. 3816

Property Number: 21199930131

Fort Benning

Ft. Benning Co: Muscogee GA 31905

Status: Unutilized

Comments: 7514 sq. ft., most recent use—storage, off-site use only.

Bldgs. 5974-5978

Property Number: 21199930135

Fort Benning

Ft. Benning Co: Muscogee GA 31905

Status: Unutilized

Comments: 400 sq. ft., most recent use—storage, off-site use only.

Bldg. 5993

Property Number: 21199930136

Fort Benning

Ft. Benning Co: Muscogee GA 31905

Status: Unutilized

Comments: 960 sq. ft., most recent use—storage, off-site use only.

Bldg. 5994

Property Number: 21199930137

Fort Benning

Ft. Benning Co: Muscogee GA 31905

Status: Unutilized

Comments: 2016 sq. ft., most recent use—storage, off-site use only.

Army

Georgia

Building

Bldg. T-1003

Property Number: 21200030085

Fort Stewart

Hinesville Co: Liberty GA 31514

Status: Excess

Comments: 9267 sq. ft., poor condition, most recent use—admin., off-site use only.

Bldg. T0130

Property Number: 21200230041

Fort Stewart

Hinesville Co: Liberty GA 31314-5136

Status: Excess

Comments: 10,813 sq. ft., off-site use only.

Bldg. T0157

Property Number: 21200230042

Fort Stewart

Hinesville Co: Liberty GA 31314-5136

Status: Excess

Comments: 1440 sq. ft., off-site use only.

Bldgs. T291, T292

Property Number: 21200230044

Fort Stewart

Hinesville Co: Liberty GA 31314-5136

Status: Excess

Comments: 5220 sq. ft. each, off-site use only.

Bldg. T0295

Property Number: 21200230045

Fort Stewart

Hinesville Co: Liberty GA 31314-5136

Status: Excess

Comments: 5220 sq. ft., off-site use only.

Army

Georgia

Building

Bldgs. 00064, 00065

Property Number: 21200330108

Camp Frank D. Merrill

Dahlonega Co: Lumpkin GA 30597

Status: Unutilized

Comments: 648 sq. ft. each, concrete block, most recent use—water support treatment bldg., offsite use only.

Bldg. 4151

Property Number: 21200420032

Fort Benning

Ft. Benning Co: Chattachoochee GA 31905

Status: Excess

Comments: 3169 sq. ft., most recent use—battle lab, off-site use only.

Bldg. 4152

Property Number: 21200420033

Fort Benning

Ft. Benning Co: Chattachoochee GA 31905

Status: Excess

Comments: 721 sq. ft., most recent use—battle lab, off-site use only.

Bldg. 4476

Property Number: 21200420034

Fort Benning

Ft. Benning Co: Chattachoochee GA 31905

Status: Excess

Comments: 3148 sq. ft., most recent use—veh. maint. shop, off-site use only.

Bldg. 8771

Property Number: 21200420044

Fort Benning

Ft. Benning Co: Chattachoochee GA 31905

Status: Excess

Comments: 972 sq. ft., most recent use—RH/TGT house, off-site use only.

Army

Georgia

Building

Bldg. 9029

Property Number: 21200420050

Fort Benning

Ft. Benning Co: Chattachoochee GA 31905

Status: Excess

Comments: 7356 sq. ft., most recent use—heat plant bldg., off-site use only.

Bldg. 11370

Property Number: 21200420051

Fort Benning

Ft. Benning Co: Chattachoochee GA 31905

Status: Excess

Comments: 9602 sq. ft., most recent use—nco/enl bldg., off-site use only.

Bldg. T924

Property Number: 21200420194

Fort Stewart

Ft. Stewart Co: Liberty GA 31314

Status: Excess

Comments: 9360 sq. ft., most recent use—warehouse, off-site use only.

Bldg. 00924

Property Number: 21200510065

Fort Stewart

Ft. Stewart Co: Liberty GA 31314

Status: Excess

Comments: 9360 sq. ft., most recent use—warehouse, off-site use only.

Bldg. 05955

Property Number: 21200520097

Fort Benning

Chattachoochee GA 31905

Status: Unutilized

Comments: 95 sq. ft., poor condition, most recent use—dispatch, off-site use only.

Army

Georgia

Building

Bldg. 9012

Property Number: 21200520098

Fort Benning

Chattachoochee GA 31905

Status: Unutilized

Comments: 40,442 sq. ft., poor condition, most recent use—enlisted housing, off-site use only.

Bldg. 9016

Property Number: 21200520101

Fort Benning

Chattachoochee GA 31905

Status: Unutilized

Comments: 6138 sq. ft., poor condition, most recent use—BN HQ Bldg., off-site use only.

Bldg. 9019

Property Number: 21200520102

Fort Benning

Chattachoochee GA 31905

Status: Unutilized

Comments: 7243 sq. ft., poor condition, most recent use—BN HQ Bldg., off-site use only.

Bldgs. 9027, 9036, 9044

Property Number: 21200520103

Fort Benning

Chattachoochee GA 31905

Status: Unutilized

Comments: various sq. ft., poor condition, most recent use—CO HQ Bldg., off-site use only.

Bldg. 9100

Property Number: 21200520107

Fort Benning

Chattachoochee GA 31905

Status: Unutilized

Comments: 4875 sq. ft., poor condition, most recent use—BDE HQ Bldg., off-site use only.

Army

Georgia

Building

Bldgs. 9198, 9199

Property Number: 21200520108

Fort Benning

Chattachoochee GA 31905

Status: Unutilized

Comments: 1008 sq. ft., poor condition, most recent use—admin., off-site use only.

Bldg. 10642

Property Number: 21200520111

Fort Benning

Chattachoochee GA 31905

Status: Unutilized

Comments: 176 sq. ft., poor condition, most recent use—storage shed, off-site use only.

Bldg. 08585

Property Number: 21200530078

Hunter Army Airfield

Savannah Co: Chatham GA 31409

Status: Excess

Comments: 165 sq. ft., most recent use—plant, off-site use only.

Bldg. 01150

Property Number: 21200610037

Hunter Army Airfield

Savannah Co: Chatham GA 31409

Status: Excess

Comments: 137 sq. ft., most recent use—flam mat storage, off-site use only.

Bldg. 01151

Property Number: 21200610038

Hunter Army Airfield

Savannah Co: Chatham GA 31409

Status: Excess

Comments: 78 sq. ft., most recent use—flam mat storage, off-site use only.

Army

Georgia

Building

Bldg. 01153

Property Number: 21200610039

Hunter Army Airfield

Savannah Co: Chatham GA 31409

Status: Excess

Comments: 211 sq. ft., most recent use—flam mat storage, off-site use only.

Bldg. 01530

Property Number: 21200610048

Fort Stewart

Liberty GA 31314

Status: Excess

Comments: 80 sq. ft., most recent use—scale house, off-site use only.

Bldg. 08032

Property Number: 21200610051

Fort Stewart

Liberty GA 31314

Status: Excess

Comments: 2592 sq. ft., needs rehab, most recent use—storage/stable, off-site use only.

Hawaii

Building

P-88

Property Number: 21199030324

Aliamanu Military Reservation

Honolulu Co: Honolulu HI 96818

Location: Approximately 600 feet from Main Gate on Aliamanu Drive.

Status: Unutilized

Comments: 45,216 sq. ft. underground tunnel complex, pres. of asbestos clean-up required of contamination, use of respirator required by those entering Property, use limitations

Army

Illinois

Building

Bldg. 54

Property Number: 21199620666

Rock Island Arsenal

Rock Island Co: Rock Island IL 61299

Status: Unutilized

Comments: 2000 sq. ft., most recent use—oil storage, needs repair, off-site use only.

Bldg. AR112

Property Number: 21200110081

Sheridan Reserve

Arlington Heights IL 60052-2475

Status: Unutilized

Comments: 1000 sq. ft., off-site use only.

Iowa

Building

Bldg. 00691

Property Number: 21200510073

Iowa Army Ammo Plant

Middletown Co: Des Moines IA 52638

Status: Unutilized

Comments: 2581 sq. ft. residence, presence of lead paint, possible asbestos.

Bldg. 00691

Property Number: 21200520113

Iowa Army Ammo Plant

Middletown Co: Des Moines IA 52638

Status: Unutilized

Comments: 2581 sq. ft., presence of asbestos/lead paint, most recent use—residential.

Army

Louisiana

Building

Bldg. 8423

Fort Polk

Property Number: 21199640528

Ft. Polk Co: Vernon Parish LA 71459

Status: Underutilized

Comments: 4172 sq. ft., most recent use—barracks.

Bldg. T7125

Property Number: 21200540088

Fort Polk

Ft. Polk LA 71459

Status: Unutilized

Comments: 1875 sq. ft., off-site use only.

Bldgs. T7163, T8043

Property Number: 21200540089

Fort Polk

Ft. Polk LA 71459

Status: Unutilized

Comments: 4073/1923 sq. ft., off-site use only.

Maryland

Building

Bldg. 0459B

Property Number: 21200120106

Aberdeen Proving Ground

Aberdeen Co: Harford MD 21005-5001

Status: Unutilized

Comments: 225 sq. ft., poor condition, most recent use—equipment bldg., off-site use only.

Army

Maryland

Building

Bldg. 00785

Property Number: 21200120107

Aberdeen Proving Ground

Aberdeen Co: Harford MD 21005-5001

Status: Unutilized

Comments: 160 sq. ft., poor condition, most recent use—shelter, off-site use only.

Bldg. E5239

Property Number: 21200120113

Aberdeen Proving Ground

Aberdeen Co: Harford MD 21005-5001

Status: Unutilized

Comments: 230 sq. ft., most recent use—storage, off-site use only.

Bldg. E5317

Property Number: 21200120114

Aberdeen Proving Ground

Aberdeen Co: Harford MD 21005-5001

Status: Unutilized

Comments: 3158 sq. ft., presence of asbestos/lead paint, most recent use—lab, off-site use only.

Bldg. E5637

Property Number: 21200120115

Aberdeen Proving Ground

Aberdeen Co: Harford MD 21005-5001

Status: Unutilized

Comments: 312 sq. ft., presence of asbestos/lead paint, most recent use—lab, off-site use only.

Bldg. 219

Property Number: 21200140078

Ft. George G. Meade

Ft. Meade Co: Anne Arundel MD 20755

Status: Unutilized

Comments: 8142 sq. ft., presence of asbestos/lead paint, most recent use—admin., off-site use only.

Army

Maryland

Building

Bldg. 294

Property Number: 21200140081

Ft. George G. Meade

Ft. Meade Co: Anne Arundel MD 20755

Status: Unutilized

Comments: 3148 sq. ft., presence of asbestos/lead paint, most recent use—entomology facility, offsite use only.

Bldg. 949

Property Number: 21200140083

Ft. George G. Meade

Ft. Meade Co: Anne Arundel MD 20755

Status: Unutilized

Comments: 2441 sq. ft., presence of asbestos/lead paint, most recent use—storehouse, off-site use only.

Bldg. 979

Property Number: 21200140084

Ft. George G. Meade

Ft. Meade Co: Anne Arundel MD 20755

Status: Unutilized

Comments: 2331 sq. ft., presence of asbestos/lead paint, most recent use—admin., off-site use only.

Bldg. 1007

Property Number: 21200140085

Ft. George G. Meade

Ft. Meade Co: Anne Arundel MD 20755

Status: Unutilized

Comments: 3108 sq. ft., presence of asbestos/lead paint, most recent use—storage, off-site use only.

Army

Maryland

Building

Bldg. 2214

Property Number: 21200230054

Fort George G. Meade

Fort Meade Co: Anne Arundel MD 20755

Status: Unutilized

Comments: 7740 sq. ft., needs rehab, possible asbestos/lead paint, most recent use—storage, offsite use only.

Bldg. 00375

Property Number: 21200320107

Aberdeen Proving Grounds

Aberdeen Co: Harford MD 21005

Status: Unutilized

Comments: 64 sq. ft., most recent use—storage, off-site use only.

Bldg. 0385A

Property Number: 21200320110

Aberdeen Proving Grounds

Aberdeen Co: Harford MD 21005

Status: Unutilized

Comments: 944 sq. ft., off-site use only.

Bldg. 00523

Property Number: 21200320113

Aberdeen Proving Grounds

Aberdeen Co: Harford MD 21005

Status: Unutilized

Comments: 3897 sq. ft., most recent use—paint shop, off-site use only.

Bldg. 0700B

Property Number: 21200320121

Aberdeen Proving Grounds

Aberdeen Co: Harford MD 21005

Status: Unutilized

Comments: 505 sq. ft., off-site use only.

Army

Maryland

Building

Bldg. 01113

Property Number: 21200320128

Aberdeen Proving Grounds

Aberdeen Co: Harford MD 21005

Status: Unutilized

Comments: 1012 sq. ft., off-site use only.

Bldgs. 01124, 01132

Property Number: 21200320129

Aberdeen Proving Grounds

Aberdeen Co: Harford MD 21005

Status: Unutilized

Comments: 740/2448 sq. ft., most recent use—lab, off-site use only.

Bldg. 03558

Property Number: 21200320133

Aberdeen Proving Grounds

Aberdeen Co: Harford MD 21005

Status: Unutilized

Comments: 18,000 sq. ft., most recent use—storage, off-site use only.

Bldg. 05262

Property Number: 21200320136

Aberdeen Proving Grounds

Aberdeen Co: Harford MD 21005

Status: Unutilized

Comments: 864 sq. ft., most recent use—storage, off-site use only.

Bldg. 05608

Property Number: 21200320137

Aberdeen Proving Grounds

Aberdeen Co: Harford MD 21005

Status: Unutilized

Comments: 1100 sq. ft., most recent use—maint bldg., off-site use only.

Army

Maryland

Building

Bldg. E5645

Property Number: 21200320150

Aberdeen Proving Grounds

Aberdeen Co: Harford MD 21005

Status: Unutilized

Comments: 548 sq. ft., most recent use—storage, off-site use only.

Bldg. 00435

Property Number: 21200330111

Aberdeen Proving Grounds

Aberdeen Co: Harford MD 21005

Status: Unutilized

Comments: 1191 sq. ft., needs rehab, most recent use—storage, off-site use only.

Bldg. 0449A

Property Number: 21200330112

Aberdeen Proving Grounds

Aberdeen Co: Harford MD 21005

Status: Unutilized

Comments: 143 sq. ft., needs rehab, most recent use—substation switch bldg., off-site use only.

Bldg. 0460

Property Number: 21200330114

Aberdeen Proving Grounds

Aberdeen Co: Harford MD 21005

Status: Unutilized

Comments: 1800 sq. ft., needs rehab, most recent use—electrical EQ bldg., off-site use only.

Bldg. 00914

Property Number: 21200330118

Aberdeen Proving Grounds

Aberdeen Co: Harford MD 21005

Status: Unutilized

Comments: needs rehab, most recent use—safety shelter, off-site use only.

Army

Maryland

Building

Bldg. 00915

Property Number: 21200330119

Aberdeen Proving Grounds

Aberdeen Co: Harford MD 21005

Status: Unutilized

Comments: 247 sq. ft., needs rehab, most recent use—storage, off-site use only.

Bldg. 01189

Property Number: 21200330126

Aberdeen Proving Grounds

Aberdeen Co: Harford MD 21005

Status: Unutilized

Comments: 800 sq. ft., needs rehab, most recent use—range bldg., off-site use only.

Bldg. E1413

Property Number: 21200330127

Aberdeen Proving Grounds

Aberdeen Co: Harford MD 21005

Status: Unutilized

Comments: needs rehab, most recent use—observation tower, off-site use only.

Bldg. E3175

Property Number: 21200330134

Aberdeen Proving Grounds

Aberdeen Co: Harford MD 21005

Status: Unutilized

Comments: 1296 sq. ft., needs rehab, most recent use—hazard bldg., off-site use only.

Army

Maryland

Building

4 Bldgs.

Property Number: 21200330135

Aberdeen Proving Grounds

Aberdeen Co: Harford MD 21005

Location: E3224, E3228, E3230, E3232, E3234

Status: Unutilized

Comments: sq. ft. varies, needs rehab, most recent use—lab test bldgs., off-site use only.

Bldg. E3241

Property Number: 21200330136

Aberdeen Proving Grounds

Aberdeen Co: Harford MD 21005

Status: Unutilized

Comments: 592 sq. ft., needs rehab, most recent use—medical res bldg., off-site use only.

Bldg. E3300

Property Number: 21200330139

Aberdeen Proving Grounds

Aberdeen Co: Harford MD 21005

Status: Unutilized

Comments: 44,352 sq. ft., needs rehab, most recent use—chemistry lab, off-site use only.

Bldg. E3335

Property Number: 21200330144

Aberdeen Proving Grounds

Aberdeen Co: Harford MD 21005

Status: Unutilized

Comments: 400 sq. ft., needs rehab, most recent use—storage, off-site use only.

Army

Maryland

Building

Bldgs. E3360, E3362, E3464

Property Number: 21200330145

Aberdeen Proving Grounds

Aberdeen Co: Harford MD 21005

Status: Unutilized

Comments: 3588/236 sq. ft., needs rehab, most recent use—storage, off-site use only.

Bldg. E3542

Property Number: 21200330148

Aberdeen Proving Grounds

Aberdeen Co: Harford MD 21005

Status: Unutilized

Comments: 1146 sq. ft., needs rehab, most recent use—lab test bldg., off-site use only.

Bldg. E4420

Property Number: 21200330151

Aberdeen Proving Grounds

Aberdeen Co: Harford MD 21005

Status: Unutilized

Comments: 14,997 sq. ft., needs rehab, most recent use—police bldg., off-site use only.

4 Bldgs.

Property Number: 21200330154

Aberdeen Proving Grounds

Aberdeen Co: Harford MD 21005

Location: E5005, E5049, E5050, E5051

Status: Unutilized

Comments: sq. ft. varies, needs rehab, most recent use—storage, off-site use only.

Army

Maryland

Building

Bldg. E5068

Property Number: 21200330155

Aberdeen Proving Grounds

Aberdeen Co: Harford MD 21005

Status: Unutilized

Comments: 1200 sq. ft., needs rehab, most recent use—fire station, off-site use only.

Bldgs. 05448, 05449

Property Number: 21200330161

Aberdeen Proving Grounds

Aberdeen Co: Harford MD 21005

Status: Unutilized

Comments: 6431 sq. ft., needs rehab, most recent use—enlisted UHP, off-site use only.

Bldg. 05450

Property Number: 21200330162

Aberdeen Proving Grounds

Aberdeen Co: Harford MD 21005

Status: Unutilized

Comments: 2730 sq. ft., needs rehab, most recent use—admin., off-site use only.

Bldgs. 05451, 05455

Property Number: 21200330163

Aberdeen Proving Grounds

Aberdeen Co: Harford MD 21005

Status: Unutilized

Comments: 2730/6431 sq. ft., needs rehab, most recent use—storage, off-site use only.

Bldg. 05453

Property Number: 21200330164

Aberdeen Proving Grounds

Aberdeen Co: Harford MD 21005

Status: Unutilized

Comments: 6431 sq. ft., needs rehab, most recent use—admin., off-site use only.

Army

Maryland

Building

Bldg. E5609

Property Number: 21200330167

Aberdeen Proving Grounds

Aberdeen Co: Harford MD 21005

Status: Unutilized

Comments: 2053 sq. ft., needs rehab, most recent use—storage, off-site use only.

Bldg. E5611

Property Number: 21200330168

Aberdeen Proving Grounds

Aberdeen Co: Harford MD 21005

Status: Unutilized

Comments: 11,242 sq. ft., needs rehab, most recent use—hazard bldg., off-site use only.

Bldg. E5634

Property Number: 21200330169

Aberdeen Proving Grounds

Aberdeen Co: Harford MD 21005

Status: Unutilized

Comments: 200 sq. ft., needs rehab, most recent use—flammable storage, off-site use only.

Bldg. E5654

Property Number: 21200330171

Aberdeen Proving Grounds

Aberdeen Co: Harford MD 21005

Status: Unutilized

Comments: 21,532 sq. ft., needs rehab, most recent use—storage, off-site use only.

Bldg. E5942

Property Number: 21200330176

Aberdeen Proving Grounds

Aberdeen Co: Harford MD 21005

Status: Unutilized

Comments: 2147 sq. ft., needs rehab, most recent use—igloo storage, off-site use only.

Army

Maryland

Building

Bldgs. E5952, E5953

Property Number: 21200330177

Aberdeen Proving Grounds

Aberdeen Co: Harford MD 21005

Status: Unutilized

Comments: 100/24 sq. ft., needs rehab, most recent use—compressed air bldg., off-site use only.

Bldgs. E7401, E7402

Property Number: 21200330178

Aberdeen Proving Grounds

Aberdeen Co: Harford MD 21005

Status: Unutilized

Comments: 256/440 sq. ft., needs rehab, most recent use—storage, off-site use only.

Bldgs. E7407, E7408

Property Number: 21200330179

Aberdeen Proving Grounds

Aberdeen Co: Harford MD 21005

Status: Unutilized

Comments: 1078/762 sq. ft., needs rehab, most recent use—decon facility, off-site use only.

Bldg. 3070A

Property Number: 21200420055

Aberdeen Proving Ground

Harford MD 21005

Status: Unutilized

Comments: 2299 sq. ft., most recent use—heat plant, off-site use only.

Bldg. E5026

Property Number: 21200420056

Aberdeen Proving Ground

Harford MD 21005

Status: Unutilized

Comments: 20,536 sq. ft., most recent use—storage, off-site use only.

Army

Maryland

Building

Bldg. 05261

Property Number: 21200420057

Aberdeen Proving Ground

Harford MD 21005

Status: Unutilized

Comments: 10067 sq. ft., most recent use—maintenance, off-site use only.

Bldg. E5876

Property Number: 21200440073

Aberdeen Proving Grounds

Aberdeen Co: Harford MD 21005

Status: Unutilized

Comments: 1192 sq. ft., needs rehab, most recent use—storage, off-site use only.

Bldg. 00688

Property Number: 21200530080

Aberdeen Proving Ground

Aberdeen Co: Harford MD 21005

Status: Unutilized

Comments: 24,192 sq. ft., most recent use—ammo, off-site use only.

Bldg. 04925

Property Number: 21200540091

Aberdeen Proving Ground

Aberdeen Co: Harford MD 21005

Status: Unutilized

Comments: 1326 sq. ft., off-site use only.

Army

Missouri

Building

Bldg. T1497

Property Number: 21199420441

Fort Leonard Wood

Ft. Leonard Wood Co: Pulaski MO 65473-5000

Status: Underutilized

Comments: 4720 sq. ft., 2-story, presence of lead base paint, most recent use—admin/gen. purpose, off-site use only.

Bldg. T2139

Property Number: 21199420446

Fort Leonard Wood

Ft. Leonard Wood Co: Pulaski MO 65473-5000

Status: Underutilized

Comments: 3663 sq. ft., 1-story, presence of lead base paint, most recent use—admin/gen. purpose, off-site use only.

Bldg. T2385

Property Number: 21199510115

Fort Leonard Wood

Ft. Leonard Wood Co: Pulaski MO 65473

Status: Excess

Comments: 3158 sq. ft., 1-story, wood frame, most recent use—admin., to be vacated 8/95, off-site use only.

Bldg. 2167

Property Number: 21199820179

Fort Leonard Wood

Ft. Leonard Wood Co: Pulaski MO 65473-5000

Status: Unutilized

Comments: 1296 sq. ft., presence of asbestos/lead paint, most recent use—admin., off-site use only.

Army

Missouri

Building

Bldgs. 2192, 2196, 2198

Property Number: 21199820183

Fort Leonard Wood

Ft. Leonard Wood Co: Pulaski MO 65473-5000

Status: Unutilized

Comments: 4720 sq. ft., presence of asbestos/lead paint, most recent use—barracks, off-site use only.

12 Bldgs.

Property Number: 21200410110

Fort Leonard Wood

Ft. Leonard Wood Co: Pulaski MO 65743-8944

Location: 07036, 07050, 07054, 07102, 07400, 07401, 08245, 08249 08251, 08255, 08257, 08261.

Status: Unutilized

Comments: 7152 sq. ft. 6 plex housing quarters, potential contaminants, off-site use only.

6 Bldgs.

Property Number: 21200410111

Fort Leonard Wood

Ft. Leonard Wood Co: Pulaski MO 65743-8944

Location: 07044, 07106, 07107, 08260, 08281, 08300

Status: Unutilized

Comments: 9520 sq ft., 8 plex housing quarters, potential contaminants, off-site use only.

15 Bldgs.

Property Number: 21200410112

Fort Leonard Wood

Ft. Leonard Wood Co: Pulaski MO 65743-8944

Location: 08242, 08243, 08246-08248, 08250, 08252-08254, 08256, 08258-08259, 08262-08263, 08265

Status: Unutilized

Comments: 4784 sq ft., 4 plex housing quarters, potential contaminants, off-site use only.

Army

Missouri

Building

Bldgs. 08283, 08285

Property Number: 21200410113

Fort Leonard Wood

Ft. Leonard Wood Co: Pulaski MO 65743-8944

Status: Unutilized

Comments: 2240 sq. ft., 2 plex housing quarters, potential contaminants, off-site use only.

15 Bldgs.

Property Number: 21200410114

Fort Leonard Wood

Ft. Leonard Wood Co: Pulaski MO 65743-0827

Location: 08267, 08269, 08271, 08273, 08275, 08277, 08279, 08290 08296, 08301

Status: Unutilized

Comments: 4784 sq. ft., 4 plex housing quarters, potential contaminants, off-site use only.

Bldg. 09432

Property Number: 21200410115

Fort Leonard Wood

Ft. Leonard Wood Co: Pulaski MO 65743-8944

Status: Unutilized

Comments: 8724 sq. ft., 6-plex housing quarters, potential contaminants, off-site use only.

Bldgs. 5006 and 5013

Property Number: 21200430064

Fort Leonard Wood

Ft. Leonard Wood Co: Pulaski MO 65743-8944

Status: Unutilized

Comments: 192 sq. ft., needs repair, most recent use—generator bldg., off-site use only.

Army

Missouri

Building

Bldgs. 13210, 13710

Property Number: 21200430065

Fort Leonard Wood

Ft. Leonard Wood Co: Pulaski MO 65743-8944

Status: Unutilized

Comments: 144 sq. ft. each, needs repair, most recent use—communication, off-site use only.

Montana

Building

Bldg. 00405

Property Number: 21200130099

Fort Harrison

Ft. Harrison Co: Lewis/Clark MT 59636

Status: Unutilized

Comments: 3467 sq. ft., most recent use—storage, security limitations.

Bldg. T0066

Property Number: 21200130100

Fort Harrison

Ft. Harrison Co: Lewis/Clark MT 59636

Status: Unutilized

Comments: 528 sq. ft., needs rehab, presence of asbestos, security limitations.

Bldg. 00001

Property Number: 21200540093

Sheridan Hall USARC

Helena MT 59601

Status: Unutilized

Comments: 19,321 sq. ft., most recent use—Reserve Center.

Army

Montana

Building

Bldg. 00003

Property Number: 21200540094

Sheridan Hall USARC

Helena MT 59601

Status: Unutilized

Comments: 1950 sq. ft., most recent use—maintenance/storage.

New Jersey

Building

Bldg. 732

Property Number: 21199740315

Armament R Engineering Center

Picatinny Arsenal Co: Morris NJ 07806-5000

Status: Unutilized

Comments: 9077 sq. ft., needs rehab, most recent use—storage, off-site use only.

Bldg. 816C

Property Number: 21200130103

Armament R, D, Center

Picatinny Arsenal Co: Morris NJ 07806-5000

Status: Unutilized

Comments: 144 sq. ft., most recent use—storage, off-site use only.

New Mexico

Building

Bldg. 34198

Property Number: 21200230062

White Sands Missile Range

Dona Ana NM 88002

Status: Excess

Comments: 107 sq. ft., most recent use—security, off-site use only.

Army

New York

Building

Bldg. 1227

Property Number: 21200440074

U.S. Military Academy

Highlands Co: Orange NY 10996-1592

Status: Unutilized

Comments: 3800 sq. ft., needs repair, possible asbestos/lead paint, most recent use—maintenance, off-site use only.

Bldg. 2218

Property Number: 21200510067

Stewart Newburg USARC

New Windsor Co: Orange NY 12553-9000

Status: Unutilized

Comments: 32,000 sq. ft., poor condition, requires major repairs, most recent use—storage/services.

7 Bldgs.

Property Number: 21200510068

Stewart Newburg USARC

New Windsor Co: Orange NY 12553-9000

Location: 2122, 2124, 2126, 2128, 2106, 2108, 2104

Status: Unutilized

Comments: sq. ft. varies, poor condition, needs major repairs, most recent use—storage/services.

Tappan USARC

Property Number: 21200510069

335 Western Hwy

Tappan Co: Rockland NY 10983

Status: Excess

Comments: 33,537 sq. ft., army reserve center.

Army

Ohio

Land

Land Property Number: 21200340094

Defense Supply Center

Columbus Co: Franklin OH 43216-5000

Status: Excess

Comments: 11 acres, railroad access.

Oklahoma

Building

Bldg. T-838, Fort Sill

Property Number: 21199220609

838 Macomb Road

Lawton Co: Comanche OK 73503-5100

Status: Unutilized

Comments: 151 sq. ft., wood frame, 1 story, off-site removal only, most recent use—vet facility (quarantine stable).

Bldg. T-954, Fort Sill

Property Number: 21199240659

954 Quinette Road

Lawton Co: Comanche OK 73503-5100

Status: Unutilized

Comments: 3571 sq. ft., 1 story wood frame, needs rehab, off-site use only, most recent use—motor repair shop.

Bldg. T-3325, Fort Sill

Property Number: 21199240681

3325 Naylor Road

Lawton Co: Comanche OK 73503-5100

Status: Unutilized

Comments: 8832 sq. ft., 1 story wood frame, needs rehab, off-site use only, most recent use—warehouse.

Army

Oklahoma

Building

Bldg. T-4226

Property Number: 21199440384

Fort Sill

Lawton Co: Comanche OK 73503

Status: Unutilized

Comments: 114 sq. ft., 1-story wood frame, possible asbestos and lead paint, most recent use—storage, off-site use only.

Bldg. P-1015, Fort Sill

Property Number: 21199520197

Lawton Co: Comanche OK 73501-5100

Status: Unutilized

Comments: 15402 sq. ft., 1-story, most recent use—storage, off-site use only.

Bldg. P-366, Fort Sill

Property Number: 21199610740

Lawton Co: Comanche OK 73503

Status: Unutilized

Comments: 482 sq. ft., possible asbestos, most recent use—storage, off-site use only.

Building T-2952

Property Number: 21199710047

Fort Sill

Lawton Co: Comanche OK 73503-5100

Status: Unutilized

Comments: 4,327 sq. ft., possible asbestos and leadpaint, most recent use—motor repair shop, offsite use only.

Building P-5042

Property Number: 21199710066

Fort Sill

Lawton Co: Comanche OK 73503-5100

Status: Unutilized

Comments: 119 sq. ft., possible asbestos and leadpaint, most recent use—heatplant, off-site use only.

Army

Oklahoma

Building

4 Buildings

Property Number: 21199710086

Fort Sill

Lawton Co: Comanche OK 73503-5100

Location: T-6465, T-6466, T-6467, T-6468

Status: Unutilized

Comments: various sq. ft., possible asbestos and leadpaint, most recent use—range support, off site use only.

Bldg. T-810

Property Number: 21199730350

Fort Sill

Lawton Co: Comanche OK 73503-5100

Status: Unutilized

Comments: 7205 sq. ft., possible asbestos/lead paint, most recent use—hay storage, off-site use only.

Bldgs. T-837, T-839

Property Number: 21199730351

Fort Sill

Lawton Co: Comanche OK 73503-5100

Status: Unutilized

Comments: approx. 100 sq. ft. each, possible asbestos/lead paint, most recent use—storage, offsite use only.

Bldg. P-934

Property Number: 21199730353

Fort Sill

Lawton Co: Comanche OK 73503-5100

Status: Unutilized

Comments: 402 sq. ft., possible asbestos/lead paint, most recent use—storage, off-site use only.

Army

Oklahoma

Building

Bldgs. T-1468, T-1469

Property Number: 21199730357

Fort Sill

Lawton Co: Comanche OK 73503-5100

Status: Unutilized

Comments: 114 sq. ft., possible asbestos/lead paint, most recent use—storage, off-site use only.

Bldg. T-1470

Property Number: 21199730358

Fort Sill

Lawton Co: Comanche OK 73503-5100

Status: Unutilized

Comments: 3120 sq. ft., possible asbestos/lead paint, most recent use—storage, off-site use only.

Bldgs. T-1954, T-2022

Property Number: 21199730362

Fort Sill

Lawton Co: Comanche OK 73503-5100

Status: Unutilized

Comments: approx. 100 sq. ft. each, possible asbestos/lead paint, most recent use—storage, offsite use only.

Bldg. T-2184

Property Number: 21199730364

Fort Sill

Lawton Co: Comanche OK 73503-5100

Status: Unutilized

Comments: 454 sq. ft., possible asbestos/lead paint, most recent use—storage, off-site use only.

Army

Oklahoma

Building

Bldgs. T-2186, T-2188, T-2189

Property Number: 21199730366

Fort Sill

Lawton Co: Comanche OK 73503-5100

Status: Unutilized

Comments: 1656—3583 sq. ft., possible asbestos/lead paint, most recent use—vehicle maint. shop, off-site use only.

Bldg. T-2187

Property Number: 21199730367

Fort Sill

Lawton Co: Comanche OK 73503-5100

Status: Unutilized

Comments: 1673 sq. ft., possible asbestos/lead paint, most recent use—storage, off-site use only.

Bldgs. T-2291 thru T-2296

Property Number: 21199730372

Fort Sill

Lawton Co: Comanche OK 73503-5100

Status: Unutilized

Comments: 400 sq. ft. each, possible asbestos/lead paint, most recent use—storage, off-site use only.

Bldgs. T-3001, T-3006

Property Number: 21199730383

Fort Sill

Lawton Co: Comanche OK 73503-5100

Status: Unutilized

Comments: approx. 9300 sq. ft., possible asbestos/lead paint, most recent use—storage, off-site use only.

Army

Oklahoma

Building

Bldg. T-3314

Property Number: 21199730385

Fort Sill

Lawton Co: Comanche OK 73503-5100

Status: Unutilized

Comments: 229 sq. ft., possible asbestos/lead paint, most recent use—office, off-site use only.

Bldg. T-5041

Property Number: 21199730409

Fort Sill

Lawton Co: Comanche OK 73503-5100

Status: Unutilized

Comments: 763 sq. ft., possible asbestos/lead paint, most recent use—storage, off-site use only.

Bldg. T-5420

Property Number: 21199730414

Fort Sill

Lawton Co: Comanche OK 73503-5100

Status: Unutilized

Comments: 189 sq. ft., possible asbestos/lead paint, most recent use—fuel storage, off-site use only.

Bldg. T-7775

Property Number: 21199730419

Fort Sill

Lawton Co: Comanche OK 73503-5100

Status: Unutilized

Comments: 1452 sq. ft., possible asbestos/lead paint, most recent use—private club, off-site use only.

Army

Oklahoma

Building

4 Bldgs.

Property Number: 21199910133

Fort Sill P-617, P-1114, P-1386, P-1608

Lawton Co: Comanche OK 73503-5100

Status: Unutilized

Comments: 106 sq. ft., possible asbestos/lead paint, most recent use—utility plant, off-site use only.

Bldg. P-746

Property Number: 21199910135

Fort Sill

Lawton Co: Comanche OK 73503-5100

Status: Unutilized

Comments: 6299 sq. ft., possible asbestos/lead paint, most recent use—admin., off-site use only.

Bldgs. P-2581, P-2773

Property Number: 21199910140

Fort Sill

Lawton Co: Comanche OK 73503-5100

Status: Unutilized

Comments: 4093 and 4129 sq. ft., possible asbestos/lead paint, most recent use—office, off-site use only.

Bldg. P-2582

Property Number: 21199910141

Fort Sill

Lawton Co: Comanche OK 73503-5100

Status: Unutilized

Comments: 3672 sq. ft., possible asbestos/lead paint, most recent use—admin., off-site use only.

Army

Oklahoma

Building

Bldgs. P-2912, P-2921, P-2944

Property Number: 21199910144

Fort Sill

Lawton Co: Comanche OK 73503-5100

Status: Unutilized

Comments: 1390 sq. ft., possible asbestos/lead paint, most recent use—office, off-site use only.

Bldg. P-2914

Property Number: 21199910146

Fort Sill

Lawton Co: Comanche OK 73503-5100

Status: Unutilized

Comments: 1236 sq. ft., possible asbestos/lead paint, most recent use—storage, off-site use only.

Bldg. P-5101

Property Number: 21199910153

Fort Sill

Lawton Co: Comanche OK 73503-5100

Status: Unutilized

Comments: 82 sq. ft., possible asbestos/lead paint, most recent use—gas station, off-site use only.

Bldg. S-6430

Property Number: 21199910156

Fort Sill

Lawton Co: Comanche OK 73503-5100

Status: Unutilized

Comments: 2080 sq. ft., possible asbestos/lead paint, most recent use—range support, off-site use only.

Army

Oklahoma

Building

Bldg. T-6461

Property Number: 21199910157

Fort Sill

Lawton Co: Comanche OK 73503-5100

Status: Unutilized

Comments: 200 sq. ft., possible asbestos/lead paint, most recent use—range support, off-site use only.

Bldg. T-6462

Property Number: 21199910158

Fort Sill

Lawton Co: Comanche OK 73503-5100

Status: Unutilized

Comments: 64 sq. ft., possible asbestos/lead paint, most recent use—control tower, off-site use only.

Bldg. P-7230

Property Number: 21199910159

Fort Sill

Lawton Co: Comanche OK 73503-5100

Status: Unutilized

Comments: 160 sq. ft., possible asbestos/lead paint, most recent use—transmitter bldg., off-site use only.

Bldg. S-4023

Property Number: 21200010128

Fort Sill

Lawton Co: Comanche OK 73503-5100

Status: Unutilized

Comments: 1200 sq. ft., possible asbestos/lead paint, most recent use—storage, off-site use only.

Army

Oklahoma

Building

Bldg. P-747

Property Number: 21200120120

Fort Sill

Lawton Co: Comanche OK 73503-5100

Status: Unutilized

Comments: 9232 sq. ft., possible asbestos/lead paint, most recent use—lab, off-site use only.

Bldg. P-842

Property Number: 21200120123

Fort Sill

Lawton Co: Comanche OK 73503-5100

Status: Unutilized

Comments: 192 sq. ft., possible asbestos/lead paint, most recent use—storage, off-site use only.

Bldg. T-911

Property Number: 21200120124

Fort Sill

Lawton Co: Comanche OK 73503-5100

Status: Unutilized

Comments: 3080 sq. ft., possible asbestos/lead paint, most recent use—office, off-site use only.

Bldg. P-1672

Property Number: 21200120126

Fort Sill

Lawton Co: Comanche OK 73503-5100

Status: Unutilized

Comments: 1056 sq. ft., possible asbestos/lead paint, most recent use—storage, off-site use only.

Bldg. S-2362

Property Number: 21200120127

Fort Sill

Lawton Co: Comanche OK 73503-5100

Status: Unutilized

Comments: 64 sq. ft., possible asbestos/lead paint, most recent use—gatehouse, off-site use only.

Army

Oklahoma

Building

Bldg. P-2589

Property Number: 21200120129

Fort Sill

Lawton Co: Comanche OK 73503-5100

Status: Unutilized

Comments: 3672 sq. ft., possible asbestos/lead paint, most recent use—storage, off-site use only.

Bldgs. 01276, 01278

Property Number: 21200520119

Fort Sill

Lawton Co: Comanche OK 73501-5100

Status: Unutilized

Comments: 1533 sq. ft., most recent use—maintenance, off-site use only.

South Carolina

Building

Bldg. 3499

Property Number: 21199730310

Fort Jackson

Ft. Jackson Co: Richland SC 29207

Status: Unutilized

Comments: 3724 sq. ft., needs repair, most recent use—admin.

Bldg. 2441

Property Number: 21199820187

Fort Jackson

Ft. Jackson Co: Richland SC 29207

Status: Unutilized

Comments: 2160 sq. ft., needs repair, most recent use—admin.

Army

South Carolina

Building

Bldg. 3605

Property Number: 21199820188

Fort Jackson

Ft. Jackson Co: Richland SC 29207

Status: Unutilized

Comments: 711 sq. ft., needs repair, most recent use—storage.

Bldg. 1765

Property Number: 21200030109

Fort Jackson

Ft. Jackson Co: Richland SC 29207

Status: Unutilized

Comments: 1700 sq. ft., need repairs, presence of asbestos/lead paint, most recent use—training bldg., off-site use only.

Land

One Acre

Property Number: 21200110089

Fort Jackson

Columbia Co: Richland SC 29207

Status: Underutilized

Comments: approx. 1 acre

Texas

Building

Bldg. 7137, Fort Bliss

Property Number: 21199640564

El Paso Co: El Paso TX 79916

Status: Unutilized

Comments: 35,736 sq. ft., 3-story, most recent use—housing, off-site use only.

Army

Texas

Building

Bldg. 92043

Property Number: 21200020206

Fort Hood

Ft. Hood Co: Bell TX 76544

Status: Unutilized

Comments: 450 sq. ft., most recent use—storage, off-site use only.

Bldg. 92044

Property Number: 21200020207

Fort Hood

Ft. Hood Co: Bell TX 76544

Status: Unutilized

Comments: 1920 sq. ft., most recent use—admin., off-site use only.

Bldg. 92045

Property Number: 21200020208

Fort Hood

Ft. Hood Co: Bell TX 76544

Status: Unutilized

Comments: 2108 sq. ft., most recent use—maint., off-site use only.

Bldg. 120

Property Number: 21200220137

Fort Hood

Ft. Hood Co: Bell TX 76544

Status: Unutilized

Comments: 1450 sq. ft., most recent use—dental clinic, off-site use only.

Bldg. 56305

Property Number: 21200220143

Fort Hood

Ft. Hood Co: Bell TX 76544

Status: Unutilized

Comments: 2160 sq. ft., most recent use—admin., off-site use only.

Army

Texas

Building

Bldgs. 56620, 56621

Property Number: 21200220146

Fort Hood

Ft. Hood Co: Bell TX 76544

Status: Unutilized

Comments: 1120 sq. ft., most recent use—shower, off-site use only.

Bldgs. 56626, 56627

Property Number: 21200220147

Fort Hood

Ft. Hood Co: Bell TX 76544

Status: Unutilized

Comments: 1120 sq. ft., most recent use—shower, off-site use only.

Bldg. 56628

Property Number: 21200220148

Fort Hood

Ft. Hood Co: Bell TX 76544

Status: Unutilized

Comments: 1133 sq. ft., most recent use—shower, off-site use only.

Bldgs. 56636, 56637

Property Number: 21200220150

Fort Hood

Ft. Hood Co: Bell TX 76544

Status: Unutilized

Comments: 1120 sq. ft., most recent use—shower, off-site use only.

Bldg. 56638

Property Number: 21200220151

Fort Hood

Ft. Hood Co: Bell TX 76544

Status: Unutilized

Comments: 1133 sq. ft., most recent use—shower, off-site use only.

Army

Texas

Building

Bldgs. 56703, 56708

Property Number: 21200220152

Fort Hood

Ft. Hood Co: Bell TX 76544

Status: Unutilized

Comments: 1306 sq. ft., most recent use—shower, off-site use only.

Bldg. 56758

Property Number: 21200220154

Fort Hood

Ft. Hood Co: Bell TX 76544

Status: Unutilized

Comments: 1133 sq. ft., most recent use—shower, off-site use only.

Bldgs. P6220, P6222

Property Number: 21200330197

Fort Sam Houston

Camp Bullis

San Antonio Co: Bexar TX

Status: Unutilized

Comments: 384 sq. ft., most recent use—carport/storage, off-site use only.

Bldgs. P6224, P6226

Property Number: 21200330198

Fort Sam Houston

Camp Bullis

San Antonio Co: Bexar TX

Status: Unutilized

Comments: 384 sq. ft., most recent use—carport/storage, off-site use only.

Army

Texas

Building

Bldg. 04200

Property Number: 21200420065

Fort Hood

Ft. Hood Co: Bell TX 76544

Status: Unutilized

Comments: 2100 sq. ft., presence of asbestos, most recent use—admin., off-site use only.

Land

1 acre

Property Number: 21200440075

Fort Sam Houston

San Antonio Co: Bexar TX 78234

Status: Excess

Comments: 1 acre, grassy area.

Virginia

Building

Bldgs. 1516, 1517, 1552, 1567

Property Number: 21200130154

Fort Eustis

Ft. Eustis VA 23604

Status: Unutilized

Comments: 2892 sq. ft., most recent use—dining/barracks/admin, off-site use only.

Bldg. 1559

Property Number: 21200130156

Fort Eustis

Ft. Eustis VA 23604

Status: Unutilized

Comments: 2892 sq. ft., most recent use—storage, off-site use only.

Army

Virginia

Building

Bldg. T-707

Property Number: 21200330199

Fort Eustis

Ft. Eustis VA 23604

Status: Unutilized

Comments: 3763 sq. ft., most recent use—chapel, off-site use only.

Washington

Building

Bldg. CO909, Fort Lewis

Property Number: 21199630205

Ft. Lewis Co: Pierce WA 98433-9500

Status: Unutilized

Comments: 1984 sq. ft., possible asbestos/lead paint, most recent use—admin., off-site use only.

Bldg. 1164, Fort Lewis

Property Number: 21199630213

Ft. Lewis Co: Pierce WA 98433-9500

Status: Unutilized

Comments: 230 sq. ft., possible asbestos/lead paint, most recent use—storehouse, off-site use only.

Bldg. 1307, Fort Lewis

Property Number: 21199630216

Ft. Lewis Co: Pierce WA 98433-9500

Status: Unutilized

Comments: 1092 sq. ft., possible asbestos/lead paint, most recent use—storage, off-site use only.

Bldg. 1309, Fort Lewis

Property Number: 21199630217

Ft. Lewis Co: Pierce WA 98433-9500

Status: Unutilized

Comments: 1092 sq. ft., possible asbestos/lead paint, most recent use—storage, off-site use only.

Army

Washington

Building

Bldg. 2167, Fort Lewis

Property Number: 21199630218

Ft. Lewis Co: Pierce WA 98433-9500

Status: Unutilized

Comments: 288 sq. ft., possible asbestos/lead paint, most recent use—warehouse, off-site use only.

Bldg. 4078, Fort Lewis

Property Number: 21199630219

Ft. Lewis Co: Pierce WA 98433-9500

Status: Unutilized

Comments: 10200 sq. ft., needs rehab, possible asbestos/lead paint, most recent use—warehouse, off-site use only.

Bldg. 9599, Fort Lewis

Property Number: 21199630220

Ft. Lewis Co: Pierce WA 98433-9500

Status: Unutilized

Comments: 12366 sq. ft., possible asbestos/lead paint, most recent use—warehouse, off-site use only.

Bldg. A1404, Fort Lewis

Property Number: 21199640570

Ft. Lewis Co: Pierce WA 98433

Status: Unutilized

Comments: 557 sq. ft., needs rehab, most recent use—storage, off-site use only.

Bldg. EO347

Property Number: 21199710156

Fort Lewis

Ft. Lewis Co: Pierce WA 98433

Status: Unutilized

Comments: 1800 sq. ft., possible asbestos/lead paint, most recent use—office, off-site use only.

Army

Washington

Building

Bldg. B1008, Fort Lewis

Property Number: 21199720216

Ft. Lewis Co: Pierce WA 98433

Status: Unutilized

Comments: 7387 sq. ft., 2-story, needs rehab, possible asbestos/lead paint, most recent use—medical clinic, off-site use only.

Bldgs. CO509, CO709, CO720

Property Number: 21199810372

Fort Lewis

Ft. Lewis Co: Pierce WA 98433

Status: Unutilized

Comments: 1984 sq. ft., possible asbestos/lead paint, needs rehab, most recent use—storage, off-site use only.

Bldg. 5162

Property Number: 21199830419

Fort Lewis

Ft. Lewis Co: Pierce WA 98433

Status: Unutilized

Comments: 2360 sq. ft., needs repair, presence of asbestos/lead paint, most recent use—office, off-site use only.

Bldg. 5224

Property Number: 21199830433

Fort Lewis

Ft. Lewis Co: Pierce WA 98433

Status: Unutilized

Comments: 2360 sq. ft., needs repair, presence of asbestos/lead paint, most recent use—educ. fac., off-site use only.

Army

Washington

Building

Bldg. U001B

Property Number: 21199920237

Fort Lewis

Ft. Lewis Co: Pierce WA 98433

Status: Excess

Comments: 54 sq. ft., needs repair, presence of asbestos/lead paint, most recent use—control tower, off-site use only.

Bldg. U001C

Property Number: 21199920238

Fort Lewis

Ft. Lewis Co: Pierce WA 98433

Status: Unutilized

Comments: 960 sq. ft., needs repair, presence of asbestos/lead paint, most recent use—supply, off-site use only.

10 Bldgs.

Property Number: 21199920239

Fort Lewis

Ft. Lewis Co: Pierce WA 98433

Location:

U002B, U002C, U005C, U015I, U016E, U019C, U022A, U028B, 0091A, U093C

Status: Excess

Comments: 600 sq. ft., needs repair, presence of asbestos/lead paint, most recent use—range house, off-site use only.

6 Bldgs.

Property Number: 21199920240

Fort Lewis

Ft. Lewis Co: Pierce WA 98433

Location:

U003A, U004B, U006C, U015B, U016B, U019B

Status: Unutilized

Comments: 54 sq. ft., needs repair, presence of asbestos/lead paint, most recent use—control tower, off-site use only.

Army

Washington

Building

Bldg. U004D

Property Number: 21199920241

Fort Lewis

Ft. Lewis Co: Pierce WA 98433

Status: Unutilized

Comments: 960 sq. ft., needs repair, presence of asbestos/lead paint, most recent use—supply, off-site use only.

Bldg. U005A

Property Number: 21199920242

Fort Lewis

Ft. Lewis Co: Pierce WA 98433

Status: Unutilized

Comments: 360 sq. ft., needs repair, presence of asbestos/lead paint, most recent use—control tower, off-site use only.

7 Bldgs.

Property Number: 21199920245

Fort Lewis

Ft. Lewis Co: Pierce WA 98433

Location:

U014A, U022B, U023A, U043B, U059B, U060A, U101A

Status: Excess

Comments: needs repair, presence of asbestos/lead paint, most recent use—ofc/tower/support, off-site use only.

Bldg. U015J

Property Number: 21199920246

Fort Lewis

Ft. Lewis Co: Pierce WA 98433

Status: Excess

Comments: 144 sq. ft., needs repair, presence of asbestos/lead paint, most recent use—tower, off-site use only.

Army

Washington

Building

Bldg. U018B

Property Number: 21199920247

Fort Lewis

Ft. Lewis Co: Pierce WA 98433

Status: Unutilized

Comments: 121 sq. ft., needs repair, presence of asbestos/lead paint, most recent use—range house, off-site use only.

Bldg. U018C

Property Number: 21199920248

Fort Lewis

Ft. Lewis Co: Pierce WA 98433

Status: Unutilized

Comments: 48 sq. ft., needs repair, presence of asbestos/lead paint, off-site use only.

Bldg. U024D

Property Number: 21199920250

Fort Lewis

Ft. Lewis Co: Pierce WA 98433

Status: Unutilized

Comments: 120 sq. ft., needs repair, presence of asbestos/lead paint, most recent use—ammo bldg., off-site use only.

Bldg. U027A

Property Number: 21199920251

Fort Lewis

Ft. Lewis Co: Pierce WA

Status: Excess

Comments: 64 sq. ft., needs repair, presence of asbestos/lead paint, most recent use—tire house, off-site use only.

Army

Washington

Building

Bldg. U031A

Property Number: 21199920253

Fort Lewis

Ft. Lewis Co: Pierce WA 98433

Status: Excess

Comments: 3456 sq. ft., needs repair, presence of asbestos/lead paint, most recent use—line shed, off-site use only.

Bldg. U031C

Property Number: 21199920254

Fort Lewis

Ft. Lewis Co: Pierce WA 98433

Status: Unutilized

Comments: 32 sq. ft., needs repair, presence of asbestos/lead paint, off-site use only.

Bldg. U040D

Property Number: 21199920255

Fort Lewis

Ft. Lewis Co: Pierce WA 98433

Status: Excess

Comments: 800 sq. ft., needs repair, presence of asbestos/lead paint, most recent use—range house, off-site use only.

Bldgs. U052C, U052H

Property Number: 21199920256

Fort Lewis

Ft. Lewis Co: Pierce WA 98433

Status: Excess

Comments: various sq. ft., needs repair, presence of asbestos/lead paint, most recent use—range house, off-site use only.

Army

Washington

Building

Bldgs. U035A, U035B

Property Number: 21199920257

Fort Lewis

Ft. Lewis Co: Pierce WA 98433

Status: Excess

Comments: 192 sq. ft., needs repair, presence of asbestos/lead paint, most recent use—shelter, offsite use only.

Bldg. U035C

Property Number: 21199920258

Fort Lewis

Ft. Lewis Co: Pierce WA 98433

Status: Excess

Comments: 242 sq. ft., needs repair, presence of asbestos/lead paint, most recent use—range house, off-site use only.

Bldg. U039A

Property Number: 21199920259

Fort Lewis

Ft. Lewis Co: Pierce WA 98433

Status: Excess

Comments: 36 sq. ft., needs repair, presence of asbestos/lead paint, most recent use—control tower, off-site use only.

Bldg. U039B

Property Number: 21199920260

Fort Lewis

Ft. Lewis Co: Pierce WA 98433

Status: Excess

Comments: 1600 sq. ft., needs repair, presence of asbestos/lead paint, most recent use—grandstand/bleachers, off-site use only.

Army

Washington

Building

Bldg. U039C

Property Number: 21199920261

Fort Lewis

Ft. Lewis Co: Pierce WA 98433

Status: Excess

Comments: 600 sq. ft., needs repair, presence of asbestos/lead paint, most recent use—support, off-site use only.

Bldg. U043A

Property Number: 21199920262

Fort Lewis

Ft. Lewis Co: Pierce WA 98433

Status: Excess

Comments: 132 sq. ft., needs repair, presence of asbestos/lead paint, most recent use—range house, off-site use only.

Bldg. U052A

Property Number: 21199920263

Fort Lewis

Ft. Lewis Co: Pierce WA 98433

Status: Excess

Comments: 69 sq. ft., needs repair, presence of asbestos/lead paint, most recent use—tower, offsite use only.

Bldg. U052E

Property Number: 21199920264

Fort Lewis

Ft. Lewis Co: Pierce WA 98433

Status: Excess

Comments: 600 sq. ft., needs repair, presence of asbestos/lead paint, most recent use—storage, off-site use only.

Army

Washington

Building

Bldg. U052G

Property Number: 21199920265

Fort Lewis

Ft. Lewis Co: Pierce WA 98433

Status: Excess

Comments: 1600 sq. ft., needs repair, presence of asbestos/lead paint, most recent use—shelter, off-site use only.

3 Bldgs.

Property Number: 21199920266

Fort Lewis

Ft. Lewis Co: Pierce WA 98433

Location:

U058A, U103A, U018A

Status: Excess

Comments: 36 sq. ft., needs repair, presence of asbestos/lead paint, most recent use—control tower, off-site use only.

Bldg. U059A

Property Number: 21199920267

Fort Lewis

Ft. Lewis Co: Pierce WA 98433

Status: Excess

Comments: 16 sq. ft., needs repair, presence of asbestos/lead paint, most recent use—tower, offsite use only.

Bldg. U093B

Property Number: 21199920268

Fort Lewis

Ft. Lewis Co: Pierce WA 98433

Status: Excess

Comments: 680 sq. ft., needs repair, presence of asbestos/lead paint, most recent use—range house, off-site use only.

Army

Washington

Building

4 Bldgs.

Property Number: 21199920269

Fort Lewis

Ft. Lewis Co: Pierce WA 98433

Location:

U101B, U101C, U507B, U557A

Status: Excess

Comments: 400 sq. ft., needs repair, presence of asbestos/lead paint, off-site use only.

Bldg. U110B

Property Number: 21199920272

Fort Lewis

Ft. Lewis Co: Pierce WA 98433

Status: Excess

Comments: 138 sq. ft., needs repair, presence of asbestos/lead paint, most recent use—support, off-site use only.

6 Bldgs.

Property Number: 21199920273

Fort Lewis

Ft. Lewis Co: Pierce WA 98433

Location:

U111A, U015A, U024E, U052F, U109A, U110A

Status: Excess

Comments: 1000 sq. ft., needs repair, presence of asbestos/lead paint, most recent use—support/shelter/mess, off-site use only.

Bldg. U112A

Property Number: 21199920274

Fort Lewis

Ft. Lewis Co: Pierce WA 98433

Status: Excess

Comments: 1600 sq. ft., needs repair, presence of asbestos/lead paint, most recent use—shelter, off-site use only.

Army

Washington

Building

Bldg. U115A

Property Number: 21199920275

Fort Lewis

Ft. Lewis Co: Pierce WA 98433

Status: Excess

Comments: 36 sq. ft., needs repair, presence of asbestos/lead paint, most recent use—tower, offsite use only.

Bldg. U507A

Property Number: 21199920276

Fort Lewis

Ft. Lewis Co: Pierce WA 98433

Status: Excess

Comments: 400 sq. ft., needs repair, presence of asbestos/lead paint, most recent use—support, off-site use only.

Bldg. C0120

Property Number: 21199920281

Fort Lewis

Ft. Lewis Co: Pierce WA 98433

Status: Excess

Comments: 384 sq. ft., needs repair, presence of asbestos/lead paint, most recent use—scale house, off-site use only.

Bldg. 01205

Property Number: 21199920290

Fort Lewis Co: Pierce WA 98433

Status: Excess

Comments: 87 sq. ft., needs repair, presence of asbestos/lead paint, most recent use—storehouse, off-site use only.

Army

Washington

Building

Bldg. 01259

Property Number: 21199920291

Fort Lewis

Ft. Lewis Co: Pierce WA 98433

Status: Excess

Comments: 16 sq. ft., needs repair, presence of asbestos/lead paint, most recent use—storage, offsite use only.

Bldg. 01266

Property Number: 21199920292

Fort Lewis

Ft. Lewis Co: Pierce WA 98433

Status: Excess

Comments: 45 sq. ft., needs repair, presence of asbestos/lead paint, most recent use—shelter, offsite use only.

Bldg. 1445

Property Number: 21199920294

Fort Lewis

Ft. Lewis Co: Pierce WA 98433

Status: Excess

Comments: 144 sq. ft., needs repair, presence of asbestos/lead paint, most recent use—generator bldg., off-site use only.

Bldgs. 03091, 03099

Property Number: 21199920296

Fort Lewis

Ft. Lewis Co: Pierce WA 98433

Status: Excess

Comments: various sq. ft., needs repair, presence of asbestos/lead paint, most recent use—sentry station, off-site use only.

Army

Washington

Building

Bldg. 4040

Property Number: 21199920298

Fort Lewis

Ft. Lewis Co: Pierce WA 98433

Status: Excess

Comments: 8326 sq. ft., needs repair, presence of asbestos/lead paint, most recent use—shed, offsite use only.

Bldgs. 4072, 5104

Property Number: 21199920299

Fort Lewis

Ft. Lewis Co: Pierce WA 98433

Status: Excess

Comments: 24/36 sq. ft., needs repair, presence of asbestos/lead paint, off-site use only.

Bldg. 4295

Property Number: 21199920300

Fort Lewis

Ft. Lewis Co: Pierce WA 98433

Status: Excess

Comments: 48 sq. ft., needs repair, presence of asbestos/lead paint, most recent use—storage, offsite use only.

Bldg. 6191

Property Number: 21199920303

Fort Lewis

Ft. Lewis Co: Pierce WA 98433

Status: Excess

Comments: 3663 sq. ft., needs repair, presence of asbestos/lead paint, most recent use—exchange branch, off-site use only.

Army

Washington

Building

Bldgs. 08076, 08080

Property Number: 21199920304

Fort Lewis

Ft. Lewis Co: Pierce WA 98433

Status: Excess

Comments: 3660/412 sq .ft., needs repair, presence of asbestos/lead paint, off-site use only.

Bldg. 08093

Property Number: 21199920305

Fort Lewis

Ft. Lewis Co: Pierce WA 98433

Status: Excess

Comments: 289 sq. ft., needs repair, presence of asbestos/lead paint, most recent use—boat storage, off-site use only.

Bldg. 8279

Property Number: 21199920306

Fort Lewis

Ft. Lewis Co: Pierce WA 98433

Status: Excess

Comments: 210 sq. ft., needs repair, presence of asbestos/lead paint, most recent use—fuel disp. fac., off-site use only.

Bldgs. 8280, 8291

Property Number: 21199920307

Fort Lewis

Ft. Lewis Co: Pierce WA 98433

Status: Excess

Comments: 800/464 sq. ft., needs repair, presence of asbestos/lead paint, most recent use—storage, off-site use only.

Army

Washington

Building

Bldg. 8956

Property Number: 21199920308

Fort Lewis

Ft. Lewis Co: Pierce WA 98433

Status: Excess

Comments: 100 sq. ft., needs repair, presence of asbestos/lead paint, most recent use—storage, off-site use only.

Bldg. 9530

Property Number: 21199920309

Fort Lewis

Ft. Lewis Co: Pierce WA 98433

Status: Excess

Comments: 64 sq. ft., needs repair, presence of asbestos/lead paint, most recent use—sentry station, off-site use only.

Bldg. 9574

Property Number: 21199920310

Fort Lewis

Ft. Lewis Co: Pierce WA 98433

Status: Excess

Comments: 6005 sq. ft., needs repair, presence of asbestos/lead paint, most recent use—veh. shop., off-site use only.

Bldg. 9596

Property Number: 21199920311

Fort Lewis

Ft. Lewis Co: Pierce WA 98433

Status: Excess

Comments: 36 sq. ft., needs repair, presence of asbestos/lead paint, most recent use—gas station, off-site use only.

Coe

Kentucky

Building

Green River Lock #3

Property Number: 31199010022

Rochester Co: Butler KY 42273

Location: SR 70 west from Morgantown, KY., approximately 7 miles to site.

Status: Unutilized

Comments: 980 sq. ft.; 2 story wood frame; two story residence; potential utilities; needs major rehab.

Land

Tract 2625

Property Number: 31199010025

Barkley Lake, Kentucky, and Tennessee

Cadiz Co: Trigg KY 42211

Location: Adjoining the village of Rockcastle.

Status: Excess

Comments: 2.57 acres; rolling and wooded.

Tract 2709-10 and 2710-2

Property Number: 31199010026

Barkley Lake, Kentucky and Tennessee

Cadiz Co: Trigg KY 42211

Location: 2½ miles in a southerly direction from the village of Rockcastle.

Status: Excess

Comments: 2.00 acres; steep and wooded.

Tract 2708-1 and 2709-1

Property Number: 31199010027

Barkley Lake, Kentucky and Tennessee

Cadiz Co: Trigg KY 42211

Location: 2½ miles in a southerly direction from the village of Rockcastle.

Status: Excess

Comments: 3.59 acres; rolling and wooded; no utilities.

Coe

Kentucky

Land

Tract 2800

Property Number: 31199010028

Barkley Lake, Kentucky and Tennessee

Cadiz Co: Trigg KY 42211

Location: 4½ miles in a southeasterly direction from the village of Rockcastle.

Status: Excess

Comments: 5.44 acres; steep and wooded.

Tract 2915

Property Number: 31199010029

Barkley Lake, Kentucky and Tennessee

Cadiz Co: Trigg KY 42211

Location: 6½ miles west of Cadiz.

Status: Excess

Comments: 5.76 acres; steep and wooded; no utilities.

Tract 2702

Property Number: 31199010031

Barkley Lake, Kentucky and Tennessee

Cadiz Co: Trigg KY 42211

Location: 1 mile in a southerly direction from the village of Rockcastle.

Status: Excess

Comments: 4.90 acres; wooded; no utilities.

Tract 4318

Property Number: 31199010032

Barkley Lake, Kentucky and Tennessee

Canton Co: Trigg KY 42212

Location: Trigg Co. adjoining the city of Canton, KY. on the waters of Hopson Creek.

Status: Excess

Comments: 8.24 acres; steep and wooded.

Coe

Kentucky

Land

Tract 4502

Property Number: 31199010033

Barkley Lake, Kentucky and Tennessee

Canton Co: Trigg KY 42212

Location: 3½ miles in a southerly direction from Canton, KY.

Status: Excess

Comments: 4.26 acres; steep and wooded.

Tract 4611

Property Number: 31199010034

Barkley Lake, Kentucky and Tennessee

Canton Co: Trigg KY 42212

Location: 5 miles south of Canton, KY.

Status: Excess

Comments: 10.51 acres; steep and wooded; no utilities.

Tract 4619

Property Number: 31199010035

Barkley Lake, Kentucky and Tennessee

Canton Co: Trigg KY 42212

Location: 4½ miles south from Canton, KY.

Status: Excess

Comments: 2.02 acres; steep and wooded; no utilities.

Tract 4817

Property Number: 31199010036

Barkley Lake, Kentucky and Tennessee

Canton Co: Trigg KY 42212

Location: 6 ½ miles south of Canton, KY.

Status: Excess

Comments: 1.75 acres; wooded.

Coe

Kentucky

Land

Tract 1217

Property Number: 31199010042

Barkley Lake, Kentucky and Tennessee

Eddyville Co: Lyon KY 42030

Location: On the north side of the Illinois Central Railroad.

Status: Excess

Comments: 5.80 acres; steep and wooded.

Tract 1906

Property Number: 31199010044

Barkley Lake, Kentucky and Tennessee

Eddyville Co: Lyon KY 42030

Location: Approximately 4 miles east of Eddyville, KY.

Status: Excess

Comments: 25.86 acres; rolling steep and partially wooded; no utilities.

Tract 1907

Property Number: 31199010045

Barkley Lake, Kentucky and Tennessee

Eddyville Co: Lyon KY 42038

Location: On the waters of Pilfen Creek, 4 miles east of Eddyville, KY.

Status: Excess

Comments: 8.71 acres; rolling steep and wooded; no utilities.

Tract 2001 #1

Property Number: 31199010046

Barkley Lake, Kentucky and Tennessee

Eddyville Co: Lyon KY 42030

Location: Approximately 4½ miles east of Eddyville, KY.

Status: Excess

Comments: 47.42 acres; steep and wooded; no utilities.

Coe

Kentucky

Land

Tract 2001 #2

Property Number: 31199010047

Barkley Lake, Kentucky and Tennessee

Eddyville Co: Lyon KY 42030

Location: Approximately 4½ miles east of Eddyville, KY.

Status: Excess

Comments: 8.64 acres; steep and wooded; no utilities.

Tract 2005

Property Number: 31199010048

Barkley Lake, Kentucky and Tennessee

Eddyville Co: Lyon KY 42030

Location: Approximately 5½ miles east of Eddyville, KY.

Status: Excess

Comments: 4.62 acres; steep and wooded; no utilities.

Tract 2307

Property Number: 31199010049

Barkley Lake, Kentucky and Tennessee

Eddyville Co: Lyon KY 42030

Location: Approximately 7½ miles southeasterly of Eddyville, KY.

Status: Excess

Comments: 11.43 acres; steep; rolling and wooded; no utilities.

Tract 2403

Property Number: 31199010050

Barkley Lake, Kentucky and Tennessee

Eddyville Co: Lyon KY 42030

Location: 7 miles southeasterly of Eddyville, KY.

Status: Excess

Comments: 1.56 acres; steep and wooded; no utilities.

Coe

Kentucky

Land

Tract 2504

Property Number: 31199010051

Barkley Lake, Kentucky and Tennessee

Eddyville Co: Lyon KY 42030

Location: 9 miles southeasterly of Eddyville, KY.

Status: Excess

Comments: 24.46 acres; steep and wooded; no utilities.

Tract 214

Property Number: 31199010052

Barkley Lake, Kentucky and Tennessee

Grand Rivers Co: Lyon KY 42045

Location: South of the Illinois Central Railroad, 1 mile east of the Cumberland River.

Status: Excess

Comments: 5.5 acres; wooded; no utilities.

Tract 215

Property Number: 31199010053

Barkley Lake, Kentucky and Tennessee

Grand Rivers Co: Lyon KY 42045

Location: 5 miles southwest of Kuttawa, KY.

Status: Excess

Comments: 1.40 acres; wooded; no utilities.

Tract 241

Property Number: 31199010054

Barkley Lake, Kentucky and Tennessee

Grand Rivers Co: Lyon KY 42045

Location: Old Henson Ferry Road, 6 miles west of Kuttawa, KY.

Status: Excess

Comments: 1.26 acres; steep and wooded; no utilities.

Coe

Kentucky

Land

Tracts 306, 311, 315 and 325

Property Number: 31199010055

Barkley Lake, Kentucky and Tennessee

Grand Rivers Co: Lyon KY 42045

Location: 2.5 miles southwest of Kuttawa, KY on the waters of Cypress Creek.

Status: Excess

Comments: 38.77 acres; steep and wooded; no utilities.

Tracts 2305, 2306, and 2400-1

Property Number: 31199010056

Barkley Lake, Kentucky and Tennessee

Eddyville Co: Lyon KY 42030

Location: 6½ miles southeasterly of Eddyville, KY.

Status: Excess

Comments: 97.66 acres; steep rolling and wooded; no utilities.

Tracts 5203 and 5204

Property Number: 31199010058

Barkley Lake, Kentucky and Tennessee

Linton Co: Trigg KY 42212

Location: Village of Linton, KY state highway 1254.

Status: Excess

Comments: 0.93 acres; rolling, partially wooded; no utilities.

Tract 5240

Property Number: 31199010059

Barkley Lake, Kentucky and Tennessee

Linton Co: Trigg KY 42212

Location: 1 mile northwest of Linton, KY.

Status: Excess

Comments: 2.26 acres; steep and wooded; no utilities.

Coe

Kentucky

Land

Tract 4628

Property Number: 31199011621

Barkley Lake, Kentucky and Tennessee

Canton Co: Trigg KY 42212

Location: 4½ miles south from Canton, KY.

Status: Excess

Comments: 3.71 acres; steep and wooded; subject to utility easements.

Tract 4619-B

Property Number: 31199011622

Barkley Lake, Kentucky and Tennessee

Canton Co: Trigg KY 42212

Location: 4½ miles south from Canton, KY.

Status: Excess

Comments: 1.73 acres; steep and wooded; subject to utility easements.

Tract 2403-B

Property Number: 31199011623

Barkley Lake, Kentucky and Tennessee

Eddyville Co: Lyon KY 42038

Location: 7 miles southeasterly from Eddyville, KY.

Status: Unutilized

Comments: 0.70 acres, wooded; subject to utility easements.

Tract 241-B

Property Number: 31199011624

Barkley Lake, Kentucky and Tennessee

Grand Rivers Co: Lyon KY 42045

Location: South of Old Henson Ferry Road, 6 miles west of Kuttawa, KY.

Status: Excess

Comments: 11.16 acres; steep and wooded; subject to utility easements.

Coe

Kentucky

Land

Tracts 212 and 237

Property Number: 31199011625

Barkley Lake, Kentucky and Tennessee

Grand Rivers Co: Lyon KY 42045

Location: Old Henson Ferry Road, 6 miles west of Kuttawa, KY.

Status: Excess

Comments: 2.44 acres; steep and wooded; subject to utility easements.

Tract 215-B

Property Number: 31199011626

Barkley Lake, Kentucky and Tennessee

Grand Rivers Co: Lyon KY 42045

Location: 5 miles southwest of Kuttawa

Status: Excess

Comments: 1.00 acres; wooded; subject to utility easements.

Tract 233

Property Number: 31199011627

Barkley Lake, Kentucky and Tennessee

Grand Rivers Co: Lyon KY 42045

Location: 5 miles southwest of Kuttawa

Status: Excess

Comments: 1.00 acres; wooded; subject to utility easements.

Tract N-819

Property Number: 31199140009

Dale Hollow Lake Project

Illwill Creek, Hwy 90

Hobart Co: Clinton KY 42601

Status: Underutilized

Comments: 91 acres, most recent use—hunting, subject to existing easements

Coe

Missouri

Land

Harry S Truman Dam

Property Number: 31199030014

Warsaw Co: Benton MO 65355

Location: Triangular shaped parcel southwest of access road “B”, part of Bledsoe Ferry Park

Tract 150

Status: Underutilized

Comments: 1.7 acres; potential utilities.

Montana

Building

Bldg. 1

Property Number: 31200040010

Butte Natl Guard

Butte Co: Silverbow MT 59701

Status: Unutilized

Comments: 22799 sq. ft., presence of asbestos, most recent use—cold storage, off-site use only.

Bldg. 2

Property Number: 31200040011

Butte Natl Guard

Butte Co: Silverbow MT 59701

Status: Unutilized

Comments: 3292 sq. ft., most recent use—cold storage, off-site use only.

Bldg. 3

Property Number: 31200040012

Butte Natl Guard

Butte Co: Silverbow MT 59701

Status: Unutilized

Comments: 964 sq. ft., most recent use—cold storage, off-site use only.

Coe

Montana

Building

Bldg. 4

Property Number: 31200040013

Butte Natl Guard

Butte Co: Silverbow MT 59701

Status: Unutilized

Comments: 72 sq. ft., most recent use—cold storage, off-site use only.

Bldg. 5

Property Number: 31200040014

Butte Natl Guard

Butte Co: Silverbow MT 59701

Status: Unutilized

Comments: 1286 sq. ft., most recent use—cold storage, off-site use only.

Ohio

Building

Barker Historic House

Property Number: 31199120018

Willow Island Locks and Dam

Newport Co: Washington OH 45768-9801

Location: Located at lock site, downstream of lock and dam structure

Status: Unutilized

Comments: 1600 sq. ft. bldg. with ½ acre of land, 2 story brick frame, needs rehab, on Natl Register of Historic Places, no utilities, off-site use only.

Structure

Property Number: 31200540009

21897 Deer Creek Road

Mt. Sterling Co: Pickaway OH 43143

Status: Unutilized

Comments: 1321 sq. ft., brick, off-site use only.

Coe

Oklahoma

Land

Pine Creek Lake

Property Number: 31199010923

Section 27

(See County) Co: McCurtain OK

Status: Unutilized

Comments: 3 acres; no utilities; subject to right of way for Oklahoma State Highway 3.

Pennsylvania

Building

Mahoning Creek Reservoir

Property Number: 31199210008

New Bethlehem Co: Armstrong PA 16242

Status: Unutilized

Comments: 1015 sq. ft., 2 story brick residence, off-site use only.

Dwelling

Property Number: 31199620008

Lock 6, Allegheny River, 1260 River Rd.

Freeport Co: Armstrong PA 16229-2023

Status: Unutilized

Comments: 2652 sq. ft., 3-story brick house, in close proximity to Lock and Dam, available for interim use for nonresidential purposes

Govt. Dwelling

Property Number: 31199640002

Youghiogheny River Lake

Confluence Co: Fayette PA 15424-9103

Status: Unutilized

Comments: 1421 sq. ft., 2-story brick w/basement, most recent use—residential

Coe

Pennsylvania

Building

Dwelling

Property Number: 31199710009

Lock 4, Allegheny River

Natrona Co: Allegheny PA 15065-2609

Status: Unutilized

Comments: 1664 sq. ft., 2-story brick residence, needs repair, off-site use only.

Dwelling #1

Property Number: 31199740002

Crooked Creek Lake

Ford City Co: Armstrong PA 16226-8815

Status: Excess

Comments: 2030 sq. ft., most recent use—residential, good condition, off-site use only.

Dwelling #2

Property Number: 31199740003

Crooked Creek Lake

Ford City Co: Armstrong PA 16226-8815

Status: Excess

Comments: 3045 sq. ft., most recent use—residential, good condition, off-site use only.

Govt Dwelling

Property Number: 31199740005

East Branch Lake

Wilcox Co: Elk PA 15870-9709

Status: Underutilized

Comments: approx. 5299 sq. ft., 1-story, most recent use—residence, off-site use only.

Dwelling #1

Property Number: 31199740006

Loyalhanna Lake

Saltsburg Co: Westmoreland PA 15681-9302

Status: Excess

Comments: 1996 sq. ft., most recent use—residential, good condition, off-site use only.

Coe

Pennsylvania

Building

Dwelling #2

Property Number: 31199740007

Loyalhanna Lake

Saltsburg Co: Westmoreland PA 15681-9302

Status: Excess

Comments: 1996 sq. ft., most recent use—residential, good condition, off-site use only.

Dwelling #1

Property Number: 31199740008

Woodcock Creek Lake

Saegertown Co: Crawford PA 16433-0629

Status: Excess

Comments: 2106 sq. ft., most recent use—residential, good condition, off-site use only.

Dwelling #2

Property Number: 31199740009

Lock 6, 1260 River Road

Freeport Co: Armstrong PA 16229-2023

Status: Excess

Comments: 2652 sq. ft., most recent use—residential, good condition, off-site use only.

Dwelling #2

Property Number: 31199830003

Youghiogheny River Lake

Confluence Co: Fayette PA 15424-9103

Status: Excess

Comments: 1421 sq. ft., 2-story + basement, most recent use—residential.

Residence A

Property Number: 31200410007

2045 Pohopoco Drive

Lehighton Co: Carbon PA 18235

Status: Unutilized

Comments: 1200 sq. ft., presence of asbestos, off-site use only.

Coe

Pennsylvania

Land

Mahoning Creek Lake

Property Number: 31199010018

New Bethlehem Co: Armstrong PA 16242-9603

Location: Route 28 north to Belknap, Road #4

Status: Excess

Comments: 2.58 acres; steep and densely wooded.

Tracts 610, 611, 612

Property Number: 31199011001

Shenango River Lake

Sharpsville Co: Mercer PA 16150

Location: I-79 North, I-80 West, Exit Sharon. R18 North 4 miles, left on R518, right on Mercer Avenue.

Status: Excess

Comments: 24.09 acres; subject to flowage easement.

Tracts L24, L26

Property Number: 31199011011

Crooked Creek Lake Null Co: Armstrong PA 03051

Location: Left bank—55 miles downstream of dam.

Status: Unutilized

Comments: 7.59 acres; potential for utilities.

Portion of Tract L-21A

Property Number: 31199430012

Crooked Creek Lake, LR 03051

Ford City Co: Armstrong PA 16226

Status: Unutilized

Comments: Approximately 1.72 acres of undeveloped land, subject to gas rights.

Coe

Tennessee

Land

Tract 6827

Property Number: 31199010927

Barkley Lake

Dover Co: Stewart TN 37058

Location:

2 ½ miles west of Dover, TN.

Status: Excess

Comments: .57 acres; subject to existing easements.

Tracts 6002-2 and 6010

Property Number: 31199010928

Barkley Lake

Dover Co: Stewart TN 37058

Location: 3 ½ miles south of village of Tabaccoport.

Status: Excess

Comments: 100.86 acres; subject to existing easements.

Tract 11516

Property Number: 31199010929

Barkley Lake

Ashland City Co: Dickson TN 37015

Location: ½ mile downstream from Cheatham Dam

Status: Excess

Comments: 26.25 acres; subject to existing easements.

Tract 2319

Property Number: 31199010930

J. Percy Priest Dam and Resorvoir

Murfreesboro Co: Rutherford TN 37130

Location: West of Buckeye Bottom Road

Status: Excess

Comments: 14.48 acres; subject to existing easements.

Coe

Tennessee

Land

Tract 2227

Property Number: 31199010931

J. Percy Priest Dam and Resorvoir

Murfreesboro Co: Rutherford TN 37130

Location: Old Jefferson Pike

Status: Excess

Comments: 2.27 acres; subject to existing easements.

Tract 2107

Property Number: 31199010932

J. Percy Priest Dam and Reservoir

Murfreesboro Co: Rutherford TN 37130

Location: Across Fall Creek near Fall Creek camping area.

Status: Excess

Comments: 14.85 acres; subject to existing easements.

Tracts 2601,2602,2603,2604

Property Number: 31199010933

Cordell Hull Lake and Dam Project

Doe Row Creek

Gainesboro Co: Jackson TN 38562

Location: TN Highway 56

Status: Unutilized

Comments: 11 acres; subject to existing easements.

Tract 1911

Property Number: 31199010934

J. Percy Priest Dam and Reservoir

Murfreesboro Co: Rutherford TN 37130

Location: East of Lamar Road

Status: Excess

Comments: 6.92 acres; subject to existing easements.

Coe

Tennessee

Land

Tract 7206

Property Number: 31199010936

Barkley Lake

Dover Co: Stewart TN 37058

Location: 2 ½ miles SE of Dover, TN.

Status: Excess

Comments: 10.15 acres; subject to existing easements.

Tracts 8813, 8814

Property Number: 31199010937

Barkley Lake

Cumberland Co: Stewart TN 37050

Location: 1 ½ miles East of Cumberland City.

Status: Excess

Comments: 96 acres; subject to existing easements.

Tract 8911

Property Number: 31199010938

Barkley Lake

Cumberland City Co: Montgomery TN 37050

Location: 4 miles east of Cumberland City.

Status: Excess

Comments: 7.7 acres; subject to existing easements.

Tract 11503

Property Number: 31199010939

Barkley Lake

Ashland City Co: Cheatham TN 37015

Location: 2 miles downstream from Cheatham Dam.

Status: Excess

Comments: 1.1 acres; subject to existing easements.

Coe

Tennessee

Land

Tracts 11523, 11524

Property Number: 31199010940

Barkley Lake

Ashland City Co: Cheatham TN 37015

Location: 2½ miles downstream from Cheatham Dam.

Status: Excess

Comments: 19.5 acres; subject to existing easements.

Tract 6410

Property Number: 31199010941

Barkley Lake

Bumpus Mills Co: Stewart TN 37028

Location:

4 ½ miles SW. of Bumpus Mills.

Status: Excess

Comments: 17 acres; subject to existing easements.

Tract 9707

Property Number: 31199010943

Barkley Lake

Palmyer Co: Montgomery TN 37142

Location: 3 miles NE of Palmyer, TN. Highway 149

Status: Excess

Comments: 6.6 acres; subject to existing easements.

Tract 6949

Property Number: 31199010944

Barkley Lake

Dover Co: Stewart TN 37058

Location: 1½ miles SE of Dover, TN.

Status: Excess

Comments: 29.67 acres; subject to existing easements.

Coe

Tennessee

Land

Tracts 6005 and 6017

Property Number: 31199011173

Barkley Lake

Dover Co: Stewart TN 37058

Location: 3 miles south of Village of Tobaccoport.

Status: Excess

Comments: 5 acres; subject to existing easements.

Tracts K-1191, K-1135

Property Number: 31199130007

Old Hickory Lock and Dam

Hartsville Co: Trousdale TN 37074

Status: Underutilized

Comments: 54 acres, (portion in floodway), most recent use—recreation

Tract A-102

Property Number: 31199140006

Dale Hollow Lake Project

Canoe Ridge, State Hwy 52

Celina Co: Clay TN 38551

Status: Underutilized

Comments: 351 acres, most recent use—hunting, subject to existing easements

Tract A-120

Property Number: 31199140007

Dale Hollow Lake Project

Swann Ridge, State Hwy No. 53

Celina Co: Clay TN 38551

Status: Underutilized

Comments: 883 acres, most recent use—hunting, subject to existing easements.

COE

Tennessee

Land

Tract D-185

Property Number: 31199140010

Dale Hollow Lake Project

Ashburn Creek, Hwy No. 53

Livingston Co: Clay TN 38570

Status: Underutilized

Comments: 97 acres, most recent use—hunting, subject to existing easements.

Energy

California

Building

Trailers 288, 289, 290, 293

Property Number: 41200630006

Stanford Linear Accelerator Center

Menlo Park Co: San Mateo CA 94025

Status: Excess

Comments: Various sq. ft., presence of asbestos, most recent use—office, need significant repair, off-site use only.

GSA

New York

Land

Youngstown Test Annex

Property Number: 54200620004

Porter Center Road

Porter NY 14174-0189

Status: Surplus

Comments: 98.62 overgrown acres with 6 deteriorated buildings, abuts an industrial waste treatment facility.

GSA Number: 1-D-NY-0879-1A.

Interior

Alaska

Building

Tract 02-112

Property Number: 61200620001

Legends of the Mountain

NW Fifth Ave.

Seward AK 99664

Status: Unutilized

Comments: 6982 sq. ft., most recent use—restaurant/bar, off-site use only.

Tract 02-114

Property Number: 61200620002

Harbor Dinner Club

220 Fifth Ave.

Seward AK 99664

Status: Unutilized

Comments: 5604 sq. ft., presence of asbestos/lead paint, most recent use—restaurant/bar, off-site use only.

Tract 02-115

Property Number: 61200620003

Old Solly's

Washington St.

Seward AK 99664

Status: Unutilized

Comments: 7392 sq. ft., presence of asbestos/lead paint, most recent use—gift shop/offices/bar/apts., off-site use only.

Interior

Arizona

Land

2.0 acres

Property Number: 61200630006

Tract No. DB-2-77

I-19 off ramp

Tucson AZ

Status: Excess

Comments: 2.0 acres, Del Bac Substation Site.

Oklahoma

Building

Bldg.

Property Number: 61200640002

Foss Reservoir Master Conservancy

Clinton Co: Custer OK 73601

Location: 635 North 6th Street

Status: Excess

Comments: 1200 sq. ft., most recent use—storage/office, not ADA accessible.

Texas

Building

Water Tower

Property Number: 61200510002

Lake Meredith Natl Rec Area

Fritch Co: Hutchinson TX 79036

Status: Unutilized

Comments: Off-site use only.

Interior

Washington

Building

Bldg. 87

Property Number: 61200630013

Yakima Project

1917 Marsh Road

Yakima WA 98901

Status: Excess

Comments: 1032 sq. ft., presence of asbestos/lead paint, most recent use—office, off-site use only.

Bldg. 88

Property Number: 61200630014

Yakima Project

1917 Marsh Project

Yakima WA 98901

Status: Excess

Comments: 1032 sq. ft., presence of asbestos/lead paint, most recent use—office, off-site use only.

Bldg. 127

Property Number: 61200630015

Yakima Project 1917 Marsh Road

Yakima WA 98901

Status: Excess

Comments: 1152 sq. ft., most recent use—office, off-site use only.

Bldg. 133

Property Number: 61200630016

Yakima Project 1917 Marsh Road

Yakima WA 98901

Status: Excess

Comments: 1680 sq. ft., most recent use—office, off-site use only.

Navy

Illinois

Building

Bldg. 912

Property Number: 77200640030

Naval Station

Great Lakes IL 60088

Status: Excess

Comments: 12,000 sq. ft., tailor shop, needs major repairs, presence of asbestos/lead paint, off-site use only.

VA

Alabama

Land

VA Medical Center

Property Number: 97199010053

VAMC

Tuskegee Co: Macon AL 36083

Status: Underutilized

Comments: 40 acres, buffer to VA Medical Center, potential utilities, undeveloped.

California

Land

Land

Property Number: 97199240001

4150 Clement Street

San Francisco Co: San Francisco CA 94121

Status: Underutilized

Comments: 4 acres; landslide area.

Colorado

Building

Bldg. 2

Property Number: 97200430001

VAMC

2121 North Avenue

Grand Junction Co: Mesa CO 81501

Status: Unutilized

Comments: 3298 sq. ft., needs major rehab, presence of asbestos/lead paint.

Bldg. 3

Property Number: 97200430002

VAMC

2121 North Avenue

Grand Junction Co: Mesa CO 81501

Status: Unutilized

Comments: 7275 sq. ft., needs major rehab, presence of asbestos/lead paint.

VA

Indiana

Building

Bldg. 105 VAMC

Property Number: 97199230006

East 38th Street

Marion Co: Grant IN 46952

Status: Excess

Comments: 310 sq. ft., 1 story stone structure, no sanitary or heating facilities, Natl Register of Historic Places.

Bldg. 140 VAMC

Property Number: 97199230007

East 38th Street

Marion Co: Grant IN 46952

Status: Excess

Comments: 60 sq. ft., concrete block bldg., most recent use—trash house.

Bldg. 7

Property Number: 97199810001

VA Northern Indiana Health Care System

Marion Campus, 1700 East 38th Street

Marion Co: Grant IN 46953

Status: Underutilized

Comments: 16,864 sq. ft., presence of asbestos, most recent use—psychiatric ward, National Register of Historic Places.

Bldg. 10

Property Number: 97199810002

VA Northern Indiana Health Care System

Marion Campus, 1700 East 38th Street

Marion Co: Grant IN 46953

Status: Underutilized

Comments: 16,361 sq. ft., presence of asbestos, most recent use—psychiatric ward, National Register of Historic Places.

VA

Indiana

Building

Bldg. 11

Property Number: 97199810003

VA Northern Indiana Health Care System

Marion Campus, 1700 East 38th Street

Marion Co: Grant IN 46953

Status: Underutilized

Comments: 16,361 sq. ft., presence of asbestos, most recent use—psychiatric ward, National Register of Historic Places.

Bldg. 18

Property Number: 97199810004

VA Northern Indiana Health Care System

Marion Campus, 1700 East 38th Street

Marion Co: Grant IN 46953

Status: Underutilized

Comments: 13,802 sq. ft., presence of asbestos, most recent use—psychiatric ward, National Register of Historic Places.

Bldg. 25

Property Number: 97199810005

VA Northern Indiana Health Care System

Marion Campus, 1700 East 38th Street

Marion Co: Grant IN 46953

Status: Unutilized

Comments: 32,892 sq. ft., presence of asbestos, most recent use—psychiatric ward, National Register of Historic Places.

Bldg. 1

Property Number: 97200310001

N. Indiana Health Care System

Marion Co: Grant IN 46952

Status: Unutilized

Comments: 20,287 sq. ft., needs extensive repairs, presence of asbestos, most recent use—patient ward

VA

Indiana

Building

Bldg. 3

Property Number: 97200310002

N. Indiana Health Care System

Marion Co: Grant IN 46952

Status: Unutilized

Comments: 20,550 sq. ft., needs extensive repairs, presence of asbestos, most recent use—patient ward

Bldg. 4

Property Number: 97200310003

N. Indiana Health Care System

Marion Co: Grant IN 46952

Status: Unutilized

Comments: 20,550 sq .ft., needs extensive repairs, presence of asbestos, most recent use—patient ward

Bldg. 13

Property Number: 97200310004

N. Indiana Health Care System

Marion Co: Grant IN 46952

Status: Unutilized

Comments: 8971 sq. ft., needs extensive repairs, presence of asbestos, most recent use—office

Bldg. 19

Property Number: 97200310005

N. Indiana Health Care System

Marion Co: Grant IN 46952

Status: Unutilized

Comments: 12,237 sq. ft., needs extensive repairs, presence of asbestos, most recent use—office

VA

Indiana

Building

Bldg. 20

Property Number: 97200310006

N. Indiana Health Care System

Marion Co: Grant IN 46952

Status: Unutilized

Comments: 14,039 sq. ft., needs extensive repairs, presence of asbestos, most recent use—office/storage

Bldg. 42

Property Number: 97200310007

N. Indiana Health Care System

Marion Co: Grant IN 46952

Status: Unutilized

Comments: 5025 sq. ft., needs extensive repairs, presence of asbestos, most recent use—office

Bldg. 60

Property Number: 97200310008

N. Indiana Health Care System

Marion Co: Grant IN 46952

Status: Unutilized

Comments: 18,126 sq. ft., needs extensive repairs, presence of asbestos, most recent use—office

Bldg. 122

Property Number: 97200310009

N. Indiana Health Care System

Marion Co: Grant IN 46952

Status: Unutilized

Comments: 37,135 sq. ft., needs extensive repairs, presence of asbestos, most recent use—dining hall/kitchen

VA

Iowa

Land

40.66 acres

Property Number: 97199740002

VA Medical Center

1515 West Pleasant St.

Knoxville Co: Marion IA 50138

Status: Unutilized

Comments: golf course, easement requirements

New York

Building

Bldg. 3

Property Number: 97200520001

VA Medical Center

Batavia Co: Genesee NY 14020

Status: Unutilized

Comments: 5840 sq. ft., needs rehab, presence of asbestos, most recent use—offices, eligible for Natl Register of Historic Places

Ohio

Building

Bldg. 402

Property Number: 97199920004

VA Medical Center

Dayton Co: Montgomery OH 45428

Status: Unutilized

Comments: 4 floors, potential utilities, needs major rehab, presence of asbestos/lead paint, historic property

VA

Texas

Land

Property Number: 97199010079

Olin E. Teague Veterans Center, 1901 South 1st Street

Temple Co: Bell TX 76504

Status: Underutilized

Comments: 13 acres, portion formerly landfill, portion near flammable materials, railroad crosses property, potential utilities.

Wisconsin

Building

Bldg. 8

Property Number: 97199010056

VA Medical Center

County Highway E

Tomah Co: Monroe WI 54660

Status: Underutilized

Comments: 2200 sq. ft., 2 story wood frame, possible asbestos, potential utilities, structural deficiencies, needs rehab.

Land

VA Medical Center

Property Number: 97199010054

County Highway E

Tomah Co: Monroe WI 54660

Status: Underutilized

Comments: 12.4 acres, serves as buffer between center and private property, no utilities.

Title V Properties Reported In Year 2006 Which Are Suitable And Unavailable

Air Force

New York

Building

Bldg. 1225

Property Number: 18200220014

Verona Text Annex

Verona Co: Oneida NY 13478

Status: Unutilized

Reason: Held in trust

Bldg. 1226

Property Number: 18200220015

Verona Test Annex

Verona Co: Oneida NY 13478

Status: Unutilized

Reason: Held in trust

Bldg. 1227

Property Number: 18200220016

Verona Text Annex

Verona Co: Oneida NY 13478

Status: Unutilized

Reason: Held in trust

Bldg. 1231

Property Number: 18200220017

Verona Test Annex

Verona Co: Oneida NY 13478

Status: Unutilized

Reason: Held in trust

Air Force

South Dakota

Land

Tract 133

Property Number: 18200310004

Ellsworth AFB

Box Elder Co: Pennington SD 57706

Status: Unutilized

Reason: Special Legislation

Tract 67

Property Number: 18200310005

Ellsworth AFB

Box Elder Co: Pennington SD 57706

Status: Unutilized

Reason: mission purpose

Washington

Building

22 Bldgs./Geiger Heights

Property Number: 18200420001

Fairchild AFB

Spokane WA 99224

Status: Unutilized

Reason: mission effort

Bldg. 404/Geiger Heights

Property Number: 18200420002

Fairchild AFB

Spokane WA 99224

Status: Unutilized

Reason: mission effort

11 Bldgs./Geiger Heights

Property Number: 18200420003

Fairchild AFB

Spokane WA 99224

Status: Unutilized

Reason: mission effort

Air Force

Washington

Building

Bldg. 297/Geiger Heights

Property Number: 18200420004

Fairchild AFB

Spokane WA 99224

Status: Unutilized

Reason: mission effort

9 Bldgs./Geiger Heights

Property Number: 18200420005

Fairchild AFB

Spokane WA 99224

Status: Unutilized

Reason: mission effort

22 Bldgs./Geiger Heights

Property Number: 18200420006

Fairchild AFB

Spokane WA 99224

Status: Unutilized

Reason: mission effort

51 Bldgs./Geiger Heights

Property Number: 18200420007

Fairchild AFB

Spokane WA 99224

Status: Unutilized

Reason: mission effort

Bldg. 402/Geiger Heights

Property Number: 18200420008

Fairchild AFB

Spokane WA 99224

Status: Unutilized

Reason: mission effort

Air Force

Washington

Building

5 Bldgs./Geiger Heights

Property Number: 18200420009

Fairchild AFB 222, 224, 271, 295, 260

Spokane WA 99224

Status: Unutilized

Reason: mission effort

5 Bldgs./Geiger Heights

Property Number: 18200420010

Fairchild AFB

102, 183, 118, 136, 113

Spokane WA 99224

Status: Unutilized

Reason: mission effort

Army

Alabama

Building

Bldg. 01433

Property Number: 21200220098

Fort Rucker

Ft. Rucker Co: Dale AL 36362

Status: Excess

Reason: being utilized

Bldg. 30105

Property Number: 21200510052

Fort Rucker

Ft. Rucker Co: Dale AL 36362

Status: Excess

Reason: occupied

Bldg. 40115

Property Number: 21200510053

Fort Rucker

Ft. Rucker Co: Dale AL 36362

Status: Excess

Reason: occupied

Bldg. 25303

Property Number: 21200520074

Fort Rucker

Dale AL 36362

Status: Excess

Reason: occupied

Bldg. 25304

Property Number: 21200520075

Fort Rucker

Dale AL 36362

Status: Excess

Reason: occupied

Army

Arizona

Building

Bldg. 13570

Property Number: 21200520076

Fort Huachuca

Cochise AZ 85613-7010

Status: Excess

Reason: occupied

Bldg. 22529

Property Number: 21200520077

Fort Huachuca

Cochise AZ 85613-7010

Status: Excess

Reason: occupied

Bldg. 22541

Property Number: 21200520078

Fort Huachuca

Cochise AZ 85613-7010

Status: Excess

Reason: occupied

Bldg. 30020

Property Number: 21200520079

Fort Huachuca

Cochise AZ 85613-7010

Status: Excess

Reason: occupied

Bldg. 30021

Property Number: 21200520080

Fort Huachuca

Cochise AZ 85613-7010

Status: Excess

Reason: occupied

Army

Arizona

Building

Bldg. 90311

Property Number: 21200520083

Fort Huachuca

Cochise AZ 85613-7010

Status: Excess

Reason: occupied

Bldg. 22040

Property Number: 21200540076

Fort Huachuca

Cochise AZ 85613

Status: Excess

Reason: occupied

Bldg. 22404

Property Number: 21200540077

Fort Huachuca

Cochise AZ 85613

Status: Excess

Reason: occupied

Bldg. 22540

Property Number: 21200540078

Fort Huachuca

Cochise AZ 85613

Status: Excess

Reason: occupied

Bldg. 22040

Property Number: 21200620065

Fort Huachuca

Cochise AZ 85613-7010

Status: Excess

Reason: occupied

Army

Arizona

Building

Bldg. 22404

Property Number: 21200620066

Fort Huachuca

Cochise AZ 85613-7010

Status: Excess

Reason: occupied

Bldg. 22540

Property Number: 21200620067

Fort Huachuca

Cochise AZ 85613-7010

Status: Excess

Reason: occupied

Bldg. 66150

Property Number: 21200620068

Fort Huachuca

Cochise AZ 85613-7010

Status: Excess

Reason: occupied

Bldg. 76910

Property Number: 21200620069

Fort Huachuca

Cochise AZ 85613-7010

Status: Excess

Reason: occupied

Bldg. 90335

Property Number: 21200620070

Fort Huachuca

Cochise AZ 85613-7010

Status: Excess

Reason: occupied

Army

Arizona

Building

Bldg. 90336

Property Number: 21200620071

Fort Huachuca

Cochise AZ 85613-7010

Status: Excess

Reason: occupied

Colorado

Building

Bldg. S6222

Property Number: 21200340082

Fort Carson

Ft. Carson Co: El Paso CO 80913

Status: Unutilized

Reason: occupied

Bldg. S6264

Property Number: 21200340084

Fort Carson

Ft. Carson Co: El Paso CO 80913

Status: Unutilized

Reason: occupied

Bldg. S6220

Property Number: 21200420175

Fort Carson

Ft. Carson Co: El Paso CO 80913

Status: Unutilized

Reason: in use

Bldg. S6285

Property Number: 21200420176

Fort Carson

Ft. Carson Co: El Paso CO 80913

Status: Unutilized

Reason: in use

Army

Colorado

Building

Bldg. S6287

Property Number: 21200420177

Fort Carson

Ft. Carson Co: El Paso CO 80913

Status: Unutilized

Reason: in use

Bldg. 06225

Property Number: 21200520084

Fort Carson

El Paso CO 80913-4001

Status: Unutilized

Reason: occupied

Bldg. 06280

Property Number: 21200520085

Fort Carson

El Paso CO 80913-4001

Status: Unutilized

Reason: occupied

Bldgs. 06281, 06282, 06283

Property Number: 21200520086

Fort Carson

El Paso CO 80913-4001

Status: Unutilized

Reason: occupied

Army

Georgia

Building

Bldgs. 00960, 00961, 00963

Property Number: 21200330107

Fort Benning

Ft. Benning Co: Chattahoochee GA

Status: Unutilized

Reason: occupied

Bldg. T201

Property Number: 21200420002

Hunter Army Airfield

Garrison Co: Chatham GA 31409

Status: Excess

Reason: in use

Bldg. T234

Property Number: 21200420008

Hunter Army Airfield

Garrison Co: Chatham GA 31409

Status: Excess

Reason: in use

Bldg. T702

Property Number: 21200420010

Hunter Army Airfield

Garrison Co: Chatham GA 31409

Status: Excess

Reason: in use

Bldg. T703

Property Number: 21200420011

Hunter Army Airfield

Garrison Co: Chatham GA 31409

Status: Excess

Reason: in use

Army

Georgia

Building

Bldg. T704

Property Number: 21200420012

Hunter Army Airfield

Garrison Co: Chatham GA 31409

Status: Excess

Reason: in use

Bldg. P813

Property Number: 21200420013

Hunter Army Airfield

Garrison Co: Chatham GA 31409

Status: Excess

Reason: in use

Bldgs. S843, S844, S845

Property Number: 21200420014

Hunter Army Airfield

Garrison Co: Chatham GA 31409

Status: Excess

Reason: in use

Bldg. P925

Property Number: 21200420015

Hunter Army Airfield

Garrison Co: Chatham GA 31409

Status: Excess

Reason: in use

Bldg. P1277

Property Number: 21200420024

Hunter Army Airfield

Garrison Co: Chatham GA 31409

Status: Excess

Reason: in use

Army

Georgia

Building

Bldg. T1412

Property Number: 21200420025

Hunter Army Airfield

Garrison Co: Chatham GA 31409

Status: Excess

Reason: in use

Bldg. 8658

Property Number: 21200420029

Hunter Army Airfield

Garrison Co: Chatham GA 31409

Status: Excess

Reason: in use

Bldg. 8659

Property Number: 21200420030

Hunter Army Airfield

Garrison Co: Chatham GA 31409

Status: Excess

Reason: in use

Bldgs. 8675, 8676

Property Number: 21200420031

Hunter Army Airfield

Garrison Co: Chatham GA 31409

Status: Excess

Reason: in use

Bldgs. 5962-5966

Property Number: 21200420035

Fort Benning

Ft. Benning Co: Chattachoochee GA 31905

Status: Excess

Reason: in use

Army

Georgia

Building

Bldgs. 5967-5971

Property Number: 21200420036

Fort Benning

Ft. Benning Co: Chattachoochee GA 31905

Status: Excess

Reason: in use

Bldgs. 5974-5977

Property Number: 21200420037

Fort Benning

Ft. Benning Co: Chattachoochee GA 31905

Status: Excess

Reason: in use

Bldg. 5978

Property Number: 21200420038

Fort Benning

Ft. Benning Co: Chattachoochee GA 31905

Status: Excess

Reason: in use

Bldg. 5981

Property Number: 21200420039

Fort Benning

Ft. Benning Co: Chattachoochee GA 31905

Status: Excess

Reason: in use

Bldgs. 5984-5988

Property Number: 21200420040

Fort Benning

Ft. Benning Co: Chatachoochee GA 31905

Status: Excess

Reason: in use

Army

Georgia

Building

Bldg. 5993

Property Number: 21200420041

Fort Benning

Ft. Benning Co: Chattachoochee GA 31905

Status: Excess

Reason: in use

Bldg. 5994

Property Number: 21200420042

Fort Benning

Ft. Benning Co: Chattachoochee GA 31905

Status: Excess

Reason: in use

Bldg. 5995

Property Number: 21200420043

Fort Benning

Ft. Benning Co: Chattachoochee GA 31905

Status: Excess

Reason: in use

Bldg. 9000

Property Number: 21200420045

Fort Benning

Ft. Benning Co: Chattachoochee GA 31905

Status: Excess

Reason: in use

Bldgs. 9002, 9005

Property Number: 21200420046

Fort Benning

Ft. Benning Co: Chattachoochee GA 31905

Status: Excess

Reason: in use

Army

Georgia

Building

Bldg. 9025

Property Number: 21200420047

Fort Benning

Ft. Benning Co: Chattachoochee GA 31905

Status: Excess

Reason: in use

Bldg. 9026

Property Number: 21200420048

Fort Benning

Ft. Benning Co: Chattachoochee GA 31905

Status: Excess

Reason: in use

Bldg. T01

Property Number: 21200420181

Fort Stewart

Ft. Stewart Co: Liberty GA 31314

Status: Excess

Reason: in use

Bldg. T04

Property Number: 21200420182

Fort Stewart

Ft. Stewart Co: Liberty GA 31314

Status: Excess

Reason: in use

Bldg. T05

Property Number: 21200420183

Fort Stewart

Ft. Stewart Co: Liberty GA 31314

Status: Excess

Reason: in use

Army

Georgia

Building

Bldg. T06

Property Number: 21200420184

Fort Stewart

Ft. Stewart Co: Liberty GA 31314

Status: Excess

Reason: in use

Bldg. T55

Property Number: 21200420187

Fort Stewart

Ft. Stewart Co: Liberty GA 31314

Status: Excess

Reason: in use

Bldg. T85

Property Number: 21200420188

Fort Stewart

Ft. Stewart Co: Liberty GA 31314

Status: Excess

Reason: in use

Bldg. T131

Property Number: 21200420189

Fort Stewart

Ft. Stewart Co: Liberty GA 31314

Status: Excess

Reason: in use

Bldg. T132

Property Number: 21200420190

Fort Stewart

Ft. Stewart Co: Liberty GA 31314

Status: Excess

Reason: in use

Army

Georgia

Building

Bldg. T157

Property Number: 21200420191

Fort Stewart

Ft. Stewart Co: Liberty GA 31314

Status: Excess

Reason: in use

Bldg. 01002

Property Number: 21200420197

Fort Stewart

Ft. Stewart Co: Liberty GA 31314

Status: Excess

Reason: in use

Bldg. 01003

Property Number: 21200420198

Fort Stewart

Ft. Stewart Co: Liberty GA 31314

Status: Excess

Reason: in use

Bldg. 19101

Property Number: 21200420215

Fort Stewart

Ft. Stewart Co: Liberty GA 31314

Status: Excess

Reason: in use

Bldg. 19102

Property Number: 21200420216

Fort Stewart

Ft. Stewart Co: Liberty GA 31314

Status: Excess

Reason: in use

Army

Georgia

Building

Bldg. T19111

Property Number: 21200420217

Fort Stewart

Ft. Stewart Co: Liberty GA 31314

Status: Excess

Reason: in use

Bldg. 19112

Property Number: 21200420218

Fort Stewart

Ft. Stewart Co: Liberty GA 31314

Status: Excess

Reason: in use

Bldg. 19113

Property Number: 21200420219

Fort Stewart

Ft. Stewart Co: Liberty GA 31314

Status: Excess

Reason: in use

Bldg. T19201

Property Number: 21200420220

Fort Stewart

Ft. Stewart Co: Liberty GA 31314

Status: Excess

Reason: in use

Bldg. 19202

Property Number: 21200420221

Fort Stewart

Ft. Stewart Co: Liberty GA 31314

Status: Excess

Reason: in use

Army

Georgia

Building

Bldg. 19204 thru 19207

Property Number: 21200420222

Fort Stewart

Ft. Stewart Co: Liberty GA 31314

Status: Excess

Reason: in use

Bldgs. 19208 thru 19211

Property Number: 21200420223

Fort Stewart

Ft. Stewart Co: Liberty GA 31314

Status: Excess

Reason: in use

Bldg. 19212

Property Number: 21200420224

Fort Stewart

Ft. Stewart Co: Liberty GA 31314

Status: Excess

Reason: in use

Bldg. 19213

Property Number: 21200420225

Fort Stewart

Ft. Stewart Co: Liberty GA 31314

Status: Excess

Reason: in use

Bldg. 19214

Property Number: 21200420226

Fort Stewart

Ft. Stewart Co: Liberty GA 31314

Status: Excess

Reason: in use

Army

Georgia

Building

Bldg. 19215

Property Number: 21200420227

Fort Stewart

Ft. Stewart Co: Liberty GA 31314

Status: Excess

Reason: in use

Bldg. 19216

Property Number: 21200420228

Fort Stewart

Ft. Stewart Co: Liberty GA 31314

Status: Excess

Reason: in use

Bldg. 19217

Property Number: 21200420229

Fort Stewart

Ft. Stewart Co: Liberty GA 31314

Status: Excess

Reason: in use

Bldg. 19218

Property Number: 21200420230

Fort Stewart

Ft. Stewart Co: Liberty GA 31314

Status: Excess

Reason: in use

Bldgs. 19219, 19220

Property Number: 21200420231

Fort Stewart

Ft. Stewart Co: Liberty GA 31314

Status: Excess

Reason: in use

Army

Georgia

Building

Bldg. 19223

Property Number: 21200420232

Fort Stewart

Ft. Stewart Co: Liberty GA 31314

Status: Excess

Reason: in use

Bldg. 19225

Property Number: 21200420233

Fort Stewart

Ft. Stewart Co: Liberty GA 31314

Status: Excess

Reason: in use

Bldg. 19226

Property Number: 21200420234

Fort Stewart

Ft. Stewart Co: Liberty GA 31314

Status: Excess

Reason: in use

Bldg. T19228

Property Number: 21200420235

Fort Stewart

Ft. Stewart Co: Liberty GA 31314

Status: Excess

Reason: in use

Bldg. 19229

Property Number: 21200420236

Fort Stewart

Ft. Stewart Co: Liberty GA 31314

Status: Excess

Reason: in use

Army

Georgia

Building

Bldg. 19232

Property Number: 21200420237

Fort Stewart

Ft. Stewart Co: Liberty GA 31314

Status: Excess

Reason: in use

Bldg. 19233

Property Number: 21200420238

Fort Stewart

Ft. Stewart Co: Liberty GA 31314

Status: Excess

Reason: in use

Bldg. 19236

Property Number: 21200420239

Fort Stewart

Ft. Stewart Co: Liberty GA 31314

Status: Excess

Reason: in use

Bldg. 19238

Property Number: 21200420240

Fort Stewart

Ft. Stewart Co: Liberty GA 31314

Status: Excess

Reason: in use

Bldg. 01674

Property Number: 21200510056

Fort Benning

Ft. Benning Co: Chattachoochee GA 31905

Status: Unutilized

Reason: occupied

Army

Georgia

Building

Bldg. 01675

Property Number: 21200510057

Fort Benning

Ft. Benning Co: Chattachoochee GA 31905

Status: Unutilized

Reason: occupied

Bldg. 01676

Property Number: 21200510058

Fort Benning

Ft. Benning Co: Chattachoochee GA 31905

Status: Unutilized

Reason: occupied

Bldg. 01677

Property Number: 21200510059

Fort Benning

Ft. Benning GA 31905

Status: Unutilized

Reason: occupied

Bldg. 01678

Property Number: 21200510060

Fort Benning

Ft. Benning Co: Chattachoochee GA 31905

Status: Unutilized

Reason: occupied

Bldg. 05887

Property Number: 21200510061

Fort Benning

Ft. Benning Co: Chattachoochee GA 31905

Status: Unutilized

Reason: occupied

Army

Georgia

Building

Bldg. 00051

Property Number: 21200520087

Fort Stewart

Liberty GA 31314

Status: Excess

Reason: occupied

Bldg. 00052

Property Number: 21200520088

Fort Stewart

Liberty GA 31314

Status: Excess

Reason: occupied

Bldg. 00053

Property Number: 21200520089

Fort Stewart

Liberty GA 31314

Status: Excess

Reason: occupied

Bldg. 00054

Property Number: 21200520090

Fort Stewart

Liberty GA 31314

Status: Excess

Reason: occupied

Bldg. 00106

Property Number: 21200520092

Fort Benning

Chattachoochee GA 31905

Status: Unutilized

Reason: occupied

Army

Georgia

Building

Bldg. 02023

Property Number: 21200520093

Fort Benning

Chattahoochee GA 31905

Status: Unutilized

Reason: occupied

Bldg. 2750

Property Number: 21200520094

Fort Benning

Chattachoochee GA 31905

Status: Unutilized

Reason: occupied

Bldg. 2819

Property Number: 21200520095

Fort Benning

Chattachoochee GA 31905

Status: Unutilized

Reason: occupied

Bldg. 2843

Property Number: 21200520096

Fort Benning

Chattachoochee GA 31905

Status: Unutilized

Reason: occupied

Bldg. 9013

Property Number: 21200520099

Fort Benning

Chattachoochee GA 31905

Status: Unutilized

Reason: occupied

Army

Georgia

Building

5 Bldgs.

Property Number: 21200520100

Fort Benning 9014, 9015, 9018, 9022, 9053

Chattachoochee GA 31905

Status: Unutilized

Reason: occupied

Bldg. 9050

Property Number: 21200520104

Fort Benning

Chattachoochee GA 31905

Status: Unutilized

Reason: occupied

Bldg. 9051

Property Number: 21200520105

Fort Benning

Chattachoochee GA 31905

Status: Unutilized

Reason: occupied

Bldg. 09075

Property Number: 21200520106

Fort Benning

Chattachoochee GA 31905

Status: Unutilized

Reason: occupied

Bldg. 9234

Property Number: 21200520109

Fort Benning

Chattachoochee GA 31905

Status: Unutilized

Reason: occupied

Georgia

Building

Bldgs. 10039, 10041

Property Number: 21200520110

Fort Benning

Muscogee GA 31905

Status: Unutilized

Reason: occupied

Bldg. 11326

Property Number: 21200520112

Fort Benning

Muscogee GA 31905

Status: Unutilized

Reason: occupied

Bldg. 01243

Property Number: 21200610040

Hunter Army Airfield

Savannah Co: Chatham GA 31409

Status: Excess

Reason: occupied

Bldg. 01244

Property Number: 21200610041

Hunter Army Airfield

Savannah Co: Chatham GA 31409

Status: Excess

Reason: occupied

Bldg. 01318

Property Number: 21200610042

Hunter Army Airfield

Savannah Co: Chatham GA 31409

Status: Excess

Reason: occupied

Army

Georgia

Building

Bldg. 00612

Property Number: 21200610043

Fort Stewart

Liberty GA 31314

Status: Excess

Reason: occupied

Bldg. 00614

Property Number: 21200610044

Fort Stewart

Liberty GA 31314

Status: Excess

Reason: occupied

Bldg. 00618

Property Number: 21200610045

Fort Stewart

Liberty GA 31314

Status: Excess

Reason: occupied

Bldg. 00628

Property Number: 21200610046

Fort Stewart

Liberty GA 31314

Status: Excess

Reason: occupied

Bldg. 01079

Property Number: 21200610047

Fort Stewart

Liberty GA 31314

Status: Excess

Reason: occupied

Army

Georgia

Building

Bldg. 07901

Property Number: 21200610049

Fort Stewart

Liberty GA 31314

Status: Excess

Reason: occupied

Bldg. 08031

Property Number: 21200610050

Fort Stewart

Liberty GA 31314

Status: Excess

Reason: occupied

Bldg. 08081

Property Number: 21200610052

Fort Stewart

Liberty GA 31314

Status: Excess

Reason: occupied

Bldg. 08252

Property Number: 21200610053

Fort Stewart

Liberty GA 31314

Status: Excess

Reason: occupied

Army

Indiana

Building

Bldg. 301

Property Number: 21200320098

Fort Benjamin Harrison

Indianapolis Co: Marion IN 45216

Status: Unutilized

Reason: occupied

Bldg. 302

Property Number: 21200320099

Fort Benjamin Harrison

Indianapolis Co: Marion IN 46216

Status: Unutilized

Reason: occupied

Bldg. 303

Property Number: 21200320100

Fort Benjamin Harrison

Indianapolis Co: Marion IN 46216

Status: Unutilized

Reason: occupied

Bldg. 304

Property Number: 21200320101

Fort Benjamin Harrison

Indianapolis Co: Marion IN 46216

Status: Unutilized

Reason: occupied

Bldg. 334

Property Number: 21200320102

Fort Benjamin Harrison

Indianapolis Co: Marion IN 46216

Status: Unutilized

Reason: occupied

Army

Indiana

Building

Bldg. 337

Property Number: 21200320103

Fort Benjamin Harrison

Indianapolis Co: Marion IN 46216

Status: Unutilized

Reason: occupied

Kentucky

Building

Bldg. 06894

Property Number: 21200630070

Fort Campbell

Christian KY 42223

Status: Unutilized

Reason: mission use

Bldg. 06895

Property Number: 21200630071

Fort Campbell

Christian KY 42223

Status: Unutilized

Reason: mission use

Louisiana

Building

Bldg. T401

Property Number: 21200540084

Fort Polk

Ft. Polk LA 71459

Status: Unutilized

Reason: occupied

Army

Louisiana

Building

Bldgs. T406, T407, T411

Property Number: 21200540085

Fort Polk

Ft. Polk LA 71459

Status: Unutilized

Reason: occupied

Bldg. T412

Property Number: 21200540086

Fort Polk

Ft. Polk LA 71459

Status: Unutilized

Reason: occupied

Bldgs. T414, T421

Property Number: 21200540087

Fort Polk

Ft. Polk LA 71459

Status: Unutilized

Reason: occupied

Maryland

Building

Bldg. 2282C

Property Number: 21200230059

Fort George G. Meade

Fort Meade Co: Anne Arundel MD 20755

Status: Unutilized

Reason: secured

Bldg. 8608

Property Number: 21200410099

Fort George G. Meade

Ft. Meade MD 20755-5115

Status: Unutilized

Reason: occupied

Army

Maryland

Building

Bldg. 8612

Property Number: 21200410101

Fort George G. Meade

Ft. Meade MD 20755-5115

Status: Unutilized

Reason: occupied

Bldg. 0001A

Property Number: 21200520114

Federal Support Center

Olney Co: Montgomery MD 20882

Status: Unutilized

Reason: occupied

Bldg. 0001C

Property Number: 21200520115

Federal Support Center

Olney Co: Montgomery MD 20882

Status: Unutilized

Reason: occupied

Bldgs. 00032, 00H14, 00H24

Property Number: 21200520116

Federal Support Center

Olney Co: Montgomery MD 20882

Status: Unutilized

Reason: occupied

Bldgs. 00034, 00H016

Property Number: 21200520117

Federal Support Center

Olney Co: Montgomery MD 20882

Status: Unutilized

Reason: occupied

Army

Maryland

Building

Bldgs. 00H10, 00H12

Property Number: 21200520118

Federal Support Center

Olney Co: Montgomery MD 20882

Status: Unutilized

Reason: occupied

Michigan

Building

Bldg. 00001

Property Number: 21200510066

Sheridan Hall USARC. 501 Euclid Avenue

Helena Co: Lewis MI 59601-2865

Status: Unutilized

Reason: Federal interest

Missouri

Building

Bldg. 1230

Property Number: 21200340087

Fort Leonard Wood

Ft. Leonard Wood Co: Pulaski MO 65743-8944

Status: Unutilized

Reason: occupied

Bldg. 1621

Property Number: 21200340088

Fort Leonard Wood

Ft. Leonard Wood Co: Pulaski MO 65743-8944

Status: Unutilized

Reason: occupied

Army

Missouri

Building

Bldg. 5760

Property Number: 21200410102

Fort Leonard Wood

Ft. Leonard Wood Co: Pulaski MO 65743-8944

Status: Unutilized

Reason: occupied

Bldg. 5762

Property Number: 21200410103

Fort Leonard Wood

Ft. Leonard Wood Co: Pulaski MO 65743-8944

Status: Unutilized

Reason: occupied

Bldg. 5763

Property Number: 21200410104

Fort Leonard Wood

Ft. Leonard Wood Co: Pulaski MO 65743-8944

Status: Unutilized

Reason: occupied

Bldg. 5765

Property Number: 21200410105

Fort Leonard Wood

Ft. Leonard Wood Co: Pulaski MO 65743-8944

Status: Unutilized

Reason: occupied

Bldg. 5760

Property Number: 21200420059

Fort Leonard Wood

Ft. Leonard Wood Co: Pulaski MO 65743-8944

Status: Unutilized

Reason: in use

Army

Missouri

Building

Bldg. 5762

Property Number: 21200420060

Fort Leonard Wood

Ft. Leonard Wood Co: Pulaski MO 65743-8944

Status: Unutilized

Reason: in use

Bldg. 5763

Property Number: 21200420061

Fort Leonard Wood

Ft. Leonard Wood Co: Pulaski MO 65743-8944

Status: Unutilized

Reason: in use

Bldg. 5765

Property Number: 21200420062

Fort Leonard Wood

Ft. Leonard Wood Co: Pulaski MO 65743-8944

Status: Unutilized

Reason: in use

Bldg. 00467

Property Number: 21200530085

Fort Leonard Wood

Ft. Leonard Wood Co: Pulaski MO 65743

Status: Unutilized

Reason: occupied

Army

New York

Building

Bldgs. 1511-1518

Property Number: 21200320160

U.S. Military Academy

Training Area

Highlands Co: Orange NY 10996

Status: Unutilized

Reason: occupied

Bldgs. 1523-1526

Property Number: 21200320161

U.S. Military Academy

Training Area

Highlands Co: Orange NY 10996

Status: Unutilized

Reason: occupied

Bldgs. 1704-1705, 1721-1722

Property Number: 21200320162

U.S. Military Academy

Training Area

Highlands Co: Orange NY 10996

Status: Unutilized

Reason: occupied

Bldg. 1723

Property Number: 21200320163

U.S. Military Academy

Training Area

Highlands Co: Orange NY 10996

Status: Unutilized

Reason: occupied

Bldgs. 1706-1709

Property Number: 21200320164

U.S. Military Academy

Training Area

Highlands Co: Orange NY 10996

Status: Unutilized

Reason: occupied

Army

New York

Building

Bldgs. 1731-1735

Property Number: 21200320165

U.S. Military Academy

Training Area

Highlands Co: Orange NY 10996

Status: Unutilized

Reason: occupied

North Carolina

Building

Bldgs. A2245, A2345

Property Number: 21200240084

Fort Bragg

Ft. Bragg Co: Cumberland NC 28310

Status: Excess

Reason: mission use

Bldg. N4116

Property Number: 21200240087

Fort Bragg

Ft. Bragg Co: Cumberland NC 28310

Status: Excess

Reason: mission use

Texas

Building

Bldgs. 4219, 4227

Property Number: 21200220139

Fort Hood

Ft. Hood Co: Bell TX 76544

Status: Unutilized

Reason: admin use

Army

Texas

Building

Bldgs. 4229, 4230, 4231

Property Number: 21200220140

Fort Hood

Ft. Hood Co: Bell TX 76544

Status: Unutilized

Reason: admin use

Bldgs. 4244, 4246

Property Number: 21200220141

Fort Hood

Ft. Hood Co: Bell TX 76544

Status: Unutilized

Reason: admin use

Bldgs. 4260, 4261, 4262

Property Number: 21200220142

Fort Hood

Ft. Hood Co: Bell TX 76544

Status: Unutilized

Reason: admin use

Bldgs. 04223-04226

Property Number: 21200440088

Fort Hood

Bell TX 76544

Status: Excess

Reason: occupied

Bldg. 04335

Property Number: 21200440090

Fort Hood

Bell TX 76544

Status: Excess

Reason: occupied

Army

Texas

Building

Bldg. 04465

Property Number: 21200440094

Fort Hood

Bell TX 76544

Status: Excess

Reason: Occupied

Bldg. 04468

Property Number: 21200440096

Fort Hood

Bell TX 76544

Status: Excess

Reason: Occupied

Bldg. 04473

Property Number: 21200440097

Fort Hood

Bell TX 76544

Status: Excess

Reason: Occupied

Bldgs. 04475-04476

Property Number: 21200440098

Fort Hood

Bell TX 76544

Status: Excess

Reason: Occupied

Bldg. 04477

Property Number: 21200440099

Fort Hood

Bell TX 76544

Status: Excess

Reason: Occupied

Army

Texas

Building

Bldg. 07002

Property Number: 21200440100

Fort Hood

Bell TX 76544

Status: Excess

Reason: Occupied

Bldg. 7002A

Property Number: 21200440101

Fort Hood

Bell TX 76544

Status: Excess

Reason: Occupied

Bldg. 57001

Property Number: 21200440105

Fort Hood

Bell TX 76544

Status: Excess

Reason: Occupied

Bldgs. 90053-90054

Property Number: 21200440107

Fort Hood

Bell TX 76544

Status: Excess

Reason: Occupied

Bldgs. 125, 126

Property Number: 21200620075

Fort Hood

Bell TX 76544

Status: Excess

Reason: occupied

Army

Texas

Building

Bldg. 190

Property Number: 21200620076

Fort Hood

Bell TX 76544

Status: Excess

Reason: occupied

Bldg. 00738

Property Number: 21200620077

Fort Hood

Bell TX 76544

Status: Excess

Reason: occupied

Bldg. 02240

Property Number: 21200620078

Fort Hood

Bell TX 76544

Status: Excess

Reason: occupied

Bldg. 04164

Property Number: 21200620079

Fort Hood

Bell TX 76544

Status: Excess

Reason: occupied

Bldgs. 04218, 04228

Property Number: 21200620080

Fort Hood

Bell TX 76544

Status: Excess

Reason: occupied

Army

Texas

Building

Bldg. 04272

Property Number: 21200620081

Fort Hood

Bell TX 76544

Status: Excess

Reason: not occupied

Bldgs. 04289, 04331

Property Number: 21200620082

Fort Hood

Bell TX 76544

Status: Excess

Reason: occupied

Bldg. 04415

Property Number: 21200620083

Fort Hood

Bell TX 76544

Status: Excess

Reason: occupied

4 Bldgs

Property Number: 21200620084

Fort Hood 04419, 04420, 04421, 04424

Bell TX 76544

Status: Excess

Reason: occupied

4 Bldgs.

Property Number: 21200620085

Fort Hood 04425, 04426, 04427, 04429

Bell TX 76544

Status: Excess

Reason: occupied

Army

Texas

Building

4 Bldgs.

Property Number: 21200620086

Fort Hood 04428, 04437, 04438, 04443

Bell TX 76544

Status: Excess

Reason: occupied

Bldg. 04430

Property Number: 21200620087

Fort Hood

Bell TX 76544

Status: Excess

Reason: occupied

Bldg. 04434

Property Number: 21200620088

Fort Hood

Bell TX 76544

Status: Excess

Reason: occupied

Bldg. 04439

Property Number: 21200620089

Fort Hood

Bell TX 76544

Status: Excess

Reason: occupied

Bldgs. 04470, 04471

Property Number: 21200620090

Fort Hood

Bell TX 76544

Status: Excess

Reason: occupied

Army

Texas

Building

Bldg. 04493

Property Number: 21200620091

Fort Hood

Bell TX 76544

Status: Excess

Reason: occupied

Bldg. 04494

Property Number: 21200620092

Fort Hood

Bell TX 76544

Status: Excess

Reason: occupied

Bldg. 04632

Property Number: 21200620093

Fort Hood

Bell TX 76544

Status: Excess

Reason: occupied

Bldg. 04640

Property Number: 21200620094

Fort Hood

Bell TX 76544

Status: Excess

Reason: occupied

Bldg. 04645

Property Number: 21200620095

Fort Hood

Bell TX 76544

Status: Excess

Reason: occupied

Army

Texas

Building

Bldg. 04906

Property Number: 21200620096

Fort Hood

Bell TX 76544

Status: Excess

Reason: occupied

Bldg. 20121

Property Number: 21200620097

Fort Hood

Bell TX 76544

Status: Excess

Reason: occupied

Bldg. 21002

Property Number: 21200620098

Fort Hood

Bell TX 76544

Status: Excess

Reason: occupied.

Bldg. 21003

Property Number: 21200620099

Fort Hood

Bell TX 76544

Status: Excess

Reason: occupied.

Bldg. 70004

Property Number: 21200620100

Fort Hood

Bell TX 76544

Status: Excess

Reason: occupied.

Army

Texas

Building

Bldg. 91052

Property Number: 21200620101

Fort Hood

Bell TX 76544

Status: Excess

Reason: occupied.

Bldg. 00738

Property Number: 21200630073

Fort Hood

Bell TX 76544

Status: Excess

Reason: occupied.

Virginia

Building

Bldg. T2827

Property Number: 21200320172

Fort Pickett

Blackstone Co: Nottoway VA 23824

Status: Unutilized

Reason: occupied.

Bldg. T2841

Property Number: 21200320173

Fort Pickett

Blackstone Co: Nottoway VA 23824

Status: Unutilized

Reason: occupied.

Army

Washington

Building

Bldg. 05904

Property Number: 21200240092

Fort Lewis

Ft. Lewis Co: Pierce WA 98433-9500

Status: Excess

Reason: mission use

Wisconsin

Building

Bldgs. 02128, 02129

Property Number: 21200630074

Fort McCoy

Monroe WI 54656

Status: Underutilized

Reason: occupied.

Bldg. 02130

Property Number: 21200630075

Fort McCoy

Monroe WI 54656

Status: Underutilized

Reason: occupied.

Bldgs. 02131, 02133

Property Number: 21200630076

Fort McCoy

Monroe WI 54656

Status: Underutilized

Reason: occupied.

Bldgs. 02134, 02135

Property Number: 21200630077

Fort McCoy

Monroe WI 54656

Status: Underutilized

Reason: occupied.

Army

Wisconsin

Building

Bldg. 02139

Property Number: 21200630078

Fort McCoy

Monroe WI 54656

Status: Underutilized

Reason: occupied.

Bldg. 02150

Property Number: 21200630079

Fort McCoy

Monroe WI 54656

Status: Underutilized

Reason: occupied.

Bldg. 02153

Property Number: 21200630080

Fort McCoy

Monroe WI 54656

Status: Underutilized

Reason: occupied.

Coe

Illinois

Building

Bldg. 7

Property Number: 31199010001

Ohio River Locks No. 53

Grand Chain Co: Pulaski IL 62941-9801

Status: Unutilized

Reason: Project integrity and security; safety liability.

Bldg. 6

Property Number: 31199010002

Ohio River Locks No. 53

Grand Chain Co: Pulaski IL 62941-9801

Status: Unutilized

Reason: Project integrity and security; safety liability.

Bldg. 5

Property Number: 31199010003

Ohio River Locks No. 53

Grand Chain Co: Pulaski IL 62941-9801

Status: Unutilized

Reason: Project integrity and security; safety liability.

Bldg. 4

Property Number: 31199010004

Ohio River Locks No. 53

Grand Chain Co: Pulaski IL 62941-9801

Status: Unutilized

Reason: Project integrity and security; safety liability.

Bldg. 3

Property Number: 31199010005

Ohio River Locks No. 53

Grand Chain Co: Pulaski IL 62941-9801

Status: Unutilized

Reason: Project integrity and security; safety liability.

Coe

Illinois

Building

Bldg. 2

Property Number: 31199010006

Ohio River Locks No. 53

Grand Chain Co: Pulaski IL 62941-9801

Status: Unutilized

Reason: Project integrity and security; safety liability.

Bldg. 1

Property Number: 31199010007

Ohio River Locks No. 53

Grand Chain Co: Pulaski IL 62941-9801

Status: Unutilized

Reason: Project integrity and security; safety liability.

Land

Lake Shelbyville

Property Number: 31199240004

Shelbyville Co: Shelby IL 62565-9804

Status: Unutilized

Reason: Disposal action initiated.

Ohio

Building

Bldg.—Berlin Lake

Property Number: 31199640001

7400 Bedell Road

Berlin Center Co: Mahoning OH 44401-9797

Status: Unutilized

Reason: utilized as construction office.

Coe

Pennsylvania

Building

Tract 403A

Property Number: 31199430021

Grays Landing Lock Project

Greensboro Co: Greene PA 15338

Status: Unutilized

Reason: To be transferred to Borough.

Tract 403B

Property Number: 31199430022

Grays Landing Lock Project

Greensboro Co: Greene PA 15338

Status: Unutilized

Reason: To be transferred to Borough.

Tract 403C

Property Number: 31199430023

Grays Landing Lock Project

Greensboro Co: Greene PA 15338

Status: Unutilized

Reason: To be transferred to Borough.

Land

East Branch Clarion River Lake

Property Number: 31199011012

Wilcox Co: Elk PA

Status: Underutilized

Reason: Location near damsite.

Dashields Locks and Dam

Property Number: 31199210009

(Glenwillard, PA)

Crescent Twp. Co: Allegheny PA 15046-0475

Status: Unutilized

Reason: Leased to Township.

Energy

Idaho

Building

Bldg. CFA-613

Property Number: 41199630001

Central Facilities Area

Idaho National Engineering Lab

Scoville Co: Butte ID 83415

Status: Unutilized

Reason: Historical issues.

GSA

California

Building

Social Security Building

Property Number: 54200610010

505 North Court Street

Visalia Co: Tulare CA 93291

Status: Surplus

GSA Number: 9-G-CA-1643

Reason: written interest.

Land

Former Outer Marker Facility

Property Number: 54200630014

215 W. 118th Street

Los Angeles CA 90061

Status: Unutilized

GSA Number: 9-U-CA-1614

Reason: advertised for sale.

Colorado

Building

Federal Building

Property Number: 54200640004

1520 E. Willamette St.

Colorado Springs Co: El Paso CO 80909

Status: Excess

GSA Number: 7-G-CO-0660

Reason: Federal interest.

GSA

Indiana

Building

Former SSA

Property Number: 54200630015

327 W. Marion Street

Elkhart IN 46516

Status: Surplus

GSA Number: 1-GR-IN-05962A

Reason: application in progress.

Iowa

Building

Federal Bldg./P.O./Courthouse

Property Number: 54200640001

8 South 6th Street

Council Bluffs Co: Pottawattamie IA 51501

Status: Excess

GSA Number: 7-G-IA-0468-1

Reason: written expression of interest.

Kentucky

Land

Tract S-2

Property Number: 54200630016

3301 Leestown Road

Lexington Co: Fayette KY 40511

Status: Excess.

GSA Number: 47-J-KY-0622

Reason: written expression of interest.

GSA

Louisiana

Land

Vacant Land

Property Number: 54200640003

Former Barksdale AFB Radio Beacon

Bossier City LA

Status: Excess

GSA Number: 7-GR-LA-04382

Reason: written expression of interest.

Michigan

Land

IOM Site

Property Number: 54200340008

Chesterfield Road

Chesterfield Co: Macomb MI

Status: Excess

GSA Number: 1-D-MI-0603F

Reason: public body interest.

Lots 2-6

Property Number: 54200540007

Lawndale Park Addition

Ludington Co: Mason MI 49431

Status: Excess

GSA Number: 1-G-MI-537-2

Reason: public benefit conveyance.

Minnesota

Building

Lakes Project Office

Property Number: 54200410015

307 Main Street East

Remer Co: Cass MN

Status: Surplus

GSA Number: 5-D-MN-548-A

Reason: Public sale in progress.

GSA

Minnesota

Building

Memorial Army Rsv Ctr

Property Number: 54200620002

1804 3rd Avenue

International Falls Co: Koochiching MN 56649

Status: Excess

GSA Number: 1-D-MN-586

Reason: written expression of interest.

Montana

Building

Border Patrol Station

Property Number: 54200620010

906 Oilfield Avenue

Shelby Co: Toole MT 59474

Status: Excess

GSA Number: 7-Z-MT-0617

Reason: written expression of interest.

Nevada

Building

Young Fed Bldg/Courthouse

Property Number: 54200620014

300 Booth Street

Reno NV 89502

Status: Surplus

GSA Number: 9-G-NV-529-2

Reason: Homeless interest.

GSA

New Mexico

Building

Federal Building

Property Number: 54200540005

517 Gold Avenue, SW

Albuquerque Co: Bernalillo NM 87102

Status: Excess

GSA Number: 7-G-NM-0588

Reason: advertised.

Federal Building

Property Number: 54200630001

1100 New York Ave.

Alamogordo Co: Otero NM 88310

Status: Surplus

GSA Number: 7-G-NM-0569

Reason: written expression of interest.

Dwelling #25

Property Number: 54200630018

Ranger Lane

Cuba Co: Sandoval NM 87013

Status: Surplus

GSA Number: 7-A-NM-0590

Reason: advertised for sale.

Infra #30203

Property Number: 54200630019

Fenton Hill Site

Mora NM 87535

Status: Surplus

GSA Number: 7-A-NM-0591

Reason: advertised for sale.

GSA

New Mexico

Land

Portion/Medical Center

Property Number: 54200620003

2820 Ridgecrest

Albuquerque Co: Bernalillo NM 87103

Status: Unutilized

GSA Number: 7-GR-NM-04212A

Reason: Homeless interest.

New York

Building

Social Sec. Admin. Bldg.

Property Number: 54200230009

517 N. Barry St.

Olean NY 10278-0004

Status: Excess

GSA Number: 1-G-NY-0895

Reason: environmental questions.

Fleet Mgmt. Center

Property Number: 54200620015

5 32nd Street

Brooklyn NY 11232

Status: Surplus

GSA Number: 1-G-NY-0872B

Reason: written expression of interest.

8 Family Apt. Bldgs.

Property Number: 54200630011

Watervliet Arsenal Housing

325 Duanesburg Road

Rotterdam Co: Schenectady NY

Status: Excess

GSA Number: 1-D-NY-0877

Reason: expression of interest

GSA

New York

Building

2 Residential Bldgs.

Property Number: 54200630012

Watervliet Arsenal Housing

1138, 1134, 1132 North Westcott Rd.

Rotterdam Co: Schenectady NY

Status: Excess

GSA Number: 1-D-NY-877

Reason: advertised.

North Dakota

Building

Residence #1

Property Number: 54200620005

Hwy 30/Canadian Border

St. John Co: Rolette ND 58369

Status: Excess

GSA Number: 7-G-ND-0504

Reason: written expression of interest.

Residence #2

Property Number: 54200620006

Hwy 30/Canadian Border

St. John Co: Rolette ND 58369

Status: Excess

GSA Number: 7-G-ND-0505

Reason: written expression of interest.

Residence #1

Property Number: 54200620007

Hwy 281/Canadian Border

Dunseith Co: Rolette ND 58329

Status: Excess

GSA Number: 7-G-ND-0508

Reason: written expression of interest.

GSA

North Dakota

Building

Residence #2

Property Number: 54200620008

Hwy 281/Canadian Border

Dunseith Co: Rolette ND 58329

Status: Excess

GSA Number: 7-G-ND-0507

Reason: written expression of interest.

Residence #3

Property Number: 54200620009

Hwy 281/Canadian Border

Dunseith Co: Rolette ND 58329

Status: Excess

GSA Number: 7-G-ND-0506

Reason: written expression of interest.

Residence #1

Property Number: 54200620012

Hwy 42/Canadian Border

Ambrose Co: Divide ND 58833

Status: Excess

GSA Number: 7-G-ND-0510

Reason: written expression of interest.

Residence #2

Property Number: 54200620013

Hwy 42/Canadian Border

Ambrose Co: Divide ND 58833

Status: Excess

GSA Number: 7-G-ND-0509

Reason: written expression of interest.

Sherwood Garage

Property Number: 54200630002

Hwy 28

Sherwood Co: Renville ND 58782

Status: Surplus

GSA Number: 7-G-ND-0512

Reason: written expression of interest.

GSA

North Dakota

Building

Noonan Garage

Property Number: 54200630003

Hwy 40

Noonan Co: Divide ND 58765

Status: Surplus

GSA Number: 7-G-ND-0511

Reason: written expression of interest.

Westhope Garage

Property Number: 54200630004

Hwy 83

Westhope Co: Bottineau ND 58793

Status: Surplus

GSA Number: 77-G-ND-0513

Reason: written expression of interest.

Oklahoma

Building

Warehouse 2E

Property Number: 54200630005

2800 S. Eastern Ave.

Oklahoma City OK 73129

Status: Surplus

GSA Number: 7-G-OK-0572

Reason: written expression of interest.

Pennsylvania

Land

18.8 acres

Property Number: 54200630007

Tract 19

Curwensville Lake Project

Clearfield PA

Status: Excess

GSA Number: 47-D-PA-0801

Reason: written expression of interest.

GSA

Tennessee

Land

Army Rsv Training Area

Property Number: 54200630006

6510 Bonny Oaks Dr.

Chattanooga Co: Hamilton TN 37416

Status: Surplus

GSA Number: 4-D-TN-05946A

Reason: written expression of interest.

Texas

Building

Bldgs. 5, 6, 7

Property Number: 54200640002

Federal Center

501 West Felix Street

Ft. Worth Co: Tarrant TX 76115

Status: Excess

GSA Number: 7-G-TX-0767-3

Reason: advertised for sale.

Vermont

Land

Former FAA Middle Marker

Property Number: 54200630021

Richardson Road

Berlin Corners VT 50053

Status: Excess

GSA Number: 1-U-VT-0477

Reason: negotiated sale pending.

GSA

Virginia

Building

142.67 acres/7 Bldgs.

Property Number: 54200630020

Pepermeir Hill Road

U.S. Geological Survey

Corbin VA 22446

Status: Excess

GSA Number: 4-I-VA-0748

Reason: Federal need.

VA

Iowa

Land

38 acres

Property Number: 97199740001

VA Medical Center

1515 West Pleasant St.

Knoxville Co: Marion IA 50138

Status: Unutilized

Reason: Enhanced-Use Legislation potential.

Michigan

Land

VA Medical Center

Property Number: 97199010015

5500 Armstrong Road

Battle Creek Co: Calhoun MI 49016

Status: Underutilized

Reason: Being used for patient and program activities.

Montana

Building

VA MT Healthcare

Property Number: 97200030001

210 S. Winchester

Miles City Co: Custer MT 59301

Status: Underutilized

Reason: transfer to Custer County.

VA

New York

Land

VA Medical Center

Property Number: 97199010017

Fort Hill Avenue

Canandaigua Co: Ontario NY 14424

Status: Underutilized

Reason: Portion leased; portion landlocked.

Ohio

Building

Bldg. 116

Property Number: 97199920002

VA Medical Center

Dayton Co: Montgomery OH 45428

Status: Unutilized

Reason: preexisting agreement.

Pennsylvania

Land

VA Medical Center

Property Number: 97199010016

New Castle Road

Butler Co: Butler PA 16001

Status: Underutilized

Reason: Used as natural drainage for facility property.

Land No. 645

Property Number: 97199010080

VA. Medical Center

Highland Drive

Pittsburgh Co: Allegheny PA 15206

Status: Unutilized

Reason: Property is essential to security and safety of patients.

VA

Pennsylvania

Land

Land—34.16 acres

Property Number: 97199340001

VA Medical Center

1400 Black Horse Hill Road

Coatesville Co: Chester PA 19320

Status: Underutilized

Reason: needed for mission related functions.

Wisconsin

Building

Bldg. 2

Property Number: 97199830002

VA Medical Center

5000 West National Ave.

Milwaukee WI 53295

Status: Underutilized

Reason: Subject of leasing negotiations.

[FR Doc. E7-1926 Filed 2-8-07; 8:45 am]

BILLING CODE 4210-67-P